DEPARTMENT OF ENERGY

Federal Energy Regulatory Commission

[Docket No. RM01-8-006]

Revised Public Utility Filing Requirements for Electric Quarterly Reports

April 23, 2007.

AGENCY: Federal Energy Regulatory Commission.

ACTION: Notice Seeking Comments on Proposed Electric Quarterly Report (EQR) Data Dictionary.

SUMMARY: In this notice, the Federal Energy Regulatory Commission (Commission) proposes to adopt an EQR Data Dictionary to define the terms and values used in filing EQR data, and invites comments on this proposal.

DATES: Comments on the proposal are due June 7, 2007.

ADDRESSES: You may submit comments on the proposal, identified by Docket No. RM01-8-006, by one of the following methods:

• Agency Web Site: http://www.ferc.gov. Follow the instructions for submitting comments via the eFiling link found in the Comment Procedures Section of the preamble.

• Mail: Commenters unable to file comments electronically must mail or hand deliver an original and 14 copies of their comments to the Federal Energy Regulatory Commission, Secretary of the Commission, 888 First Street, NE., Washington, DC 20426. Please refer to the Comment Procedures Section of the preamble for additional information on how to file paper comments.

FOR FURTHER INFORMATION CONTACT:

Michelle Veloso (Technical Information), Office of Enforcement, Federal Energy Regulatory Commission, 888 First Street, NE., Washington, DC 20426, (202) 502-8363.

Gary D. Cohen (Legal Information), Office of the General Counsel, Federal Energy Regulatory Commission, 888 First Street, NE., Washington, DC 20426, (202) 502-8321.

SUPPLEMENTARY INFORMATION: 1. The Commission is proposing to adopt an Electric Quarterly Report (EQR) Data Dictionary that will define the terms and values used in filing EQR data.¹ In this notice, the Commission attaches a draft EQR Data Dictionary and invites comment on whether this document should be adopted or modified.

¹ We are also proposing to change three field names to reflect terminology adopted by the North American Electric Reliability Corporation (NERC) in 2005. We are not proposing any other changes to field names. All other proposed changes are to the definitions of terms and values used for EQR filings.

Background

2. On April 25, 2002, the Commission issued Order No. 2001, a final rule establishing revised public utility filing requirements.² This rule revised the Commission's filing requirements to require companies subject to the Commission's regulation under section 205 of the Federal Power Act (public utilities) to file quarterly reports that: (1) Provide data identifying the utility on whose behalf the report is being filed (ID Data); (2) summarize pertinent data about the utility's currently effective contracts (Contract Data); and (3) summarize data about wholesale power sales the utility made during the reporting period (Transaction Data). The requirement to file EQRs replaced the requirement to file quarterly transaction reports summarizing a utility's market-based rate transactions and sales agreements that conformed to the utility's tariff.

² Revised Public Utility Filing Requirements, Order No. 2001, 67 FR 31043, FERC Stats. & Regs. ¶ 31,127, reh'g denied, Order No. 2001-A, 100 FERC ¶ 61,074, reconsideration and clarification denied, Order No. 2001-B, 100 FERC ¶ 61,342, order directing filings, Order No. 2001-C, 101 FERC ¶ 61,314 (2002).

3. In Order No. 2001, the Commission also adopted a new section in its regulations, 18 CFR 35.10b, which requires that the EQRs are to be prepared in conformance with the Commission's software and guidance posted and available from the Commission website. This obviates the need to revise section 35.10b to implement revisions to the software and guidance. Since the issuance of Order No. 2001, as need has arisen, the Commission has issued orders to resolve questions raised by EQR users and has directed Staff to issue additional guidance. For example, in a pair of orders issued on May 31 and October 21, 2002, the Commission provided guidance describing how EQR filers were to complete several data fields in the EQR software.³

³ Revised Public Utility Filing Requirements, 99 FERC ¶ 61,238 (2002); Revised Public Utility Filing Requirements, 67 FR 65973 (Oct. 29, 2002), FERC Stats. & Regs. ¶ 35,045 (Oct. 21, 2005).

4. Likewise, on December 23, 2003, the Commission issued Order No. 2001-E, to resolve some recurring issues faced by EQR filers, to help filers better understand the requirements of Order No. 2001, and to improve the quality and consistency of EQR data.⁴ To this end, the Commission: (1) Ordered standard formats to be used for certain location fields; (2) established an EQR Refiling Policy; and (3) streamlined and defined allowable data entries in certain data fields. The Commission instructed Staff to issue filing guidance to address these changes.⁵ This guidance was posted on the EQR page of the Commission's website on March 25, 2004.⁶ Commission Staff posted additional guidance on the Internet at the http://www.ferc.gov Web site, and several EQR Users Group meetings have been held to address the questions of EQR filers.

⁴ Revised Public Utility Filing Requirements, Order No. 2001-E, 105 FERC ¶ 61,352 (2003).

⁵ Id. at P 8.

⁶ Posted at http://www.ferc.fed.us/docs-filing/eqr/com-order.asp.

5. After Order No. 2001-E, the Commission recognized that rapid change in the electric industry may require flexibility in adding or changing the entries allowed in restricted fields in the EQR. NERC, for example, frequently adds and deletes balancing authorities (previously “control areas”) from its Transmission System Information Network rolls. In an order issued on March 25, 2004, the Commission directed Staff to alert EQR users of any future changes to allowable entries for restricted fields by e-mail, and to post these changes on the EQR page of the Commission's Web site.⁷

⁷ Revised Public Utility Filing Requirements, 106 FERC ¶ 61,281 (2004).

6. Since 2004, the Commission has performed outreach to the industry to determine which current EQR definitions are sufficient and understandable and which should be revised. As relevant here, on November 8, 2006, the Commission issued a public notice announcing that Staff was convening a meeting of the EQR Users Group to discuss a Staff draft EQR Data Dictionary.⁸ In preparation for that meeting, Staff compiled existing definitions contained in previous orders and Commission issuances.⁹ In addition, Staff suggested revisions and refinements to these definitions based on more than four years of experience reviewing EQR filings, responding to questions from EQR filers, and discussions with the EQR Users Group. Many of the revisions and refinements were intended to codify Staff guidance provided over the years to clarify companies' EQR filing obligations. Staff made its draft EQR Data Dictionary available to interested persons before the meeting.¹⁰

⁸ Revised Public Utility Filing Requirements for Electric Quarterly Reports, Notice of Electric Quarterly Reports User's Group Meeting, Nov. 8, 2006.

⁹ See Staff Draft of the EQR Data Dictionary, posted on the EQR Users Group and Workshops page on FERC.gov at http://www.ferc.gov/docs-filing/eqr/groups-workshops.asp.

¹⁰ Revised Public Utility Filing Requirements for Electric Quarterly Reports, Notice of Electric Quarterly Reports User's Group Meeting, 71 FR 69111 (Nov. 29, 2006).

7. Almost 200 people registered to attend the November 29, 2006, meeting (either in person or via teleconference) and many who attended participated in the discussion of the issues. Participants were invited to file comments on the Staff draft EQR Data Dictionary by January 12, 2007. Occidental Power Services, Inc., Southern California Edison Company, and Edison Electric Institute (EEI) filed written comments.

Discussion

8. To improve the quality of EQR filings, the Commission has determined that it would be appropriate to issue formal definitions for those fields that are currently undefined. A common, documented basis for the definition of the terms and values in the EQR will provide the Commission with more reliable and understandable information related to the contracts and transactions reported. Further, a common EQR language will create greater regulatory certainty for companies responsible for filing the EQR.

9. The proposed EQR Data Dictionary compiles all the terms used in the EQR, as they have evolved since the issuance of Order No. 2001, into an organized reference for filers and public use. Specifically, the proposed EQR Data Dictionary (Attachment A) provides the terms and values used to file the EQR. It includes terms that were not previously defined except through Staff guidance. In general, the definitions and descriptions are consistent with those provided since the issuance of Order No. 2001. The underlying structure of the EQR will remain unchanged.

10. The text of this notice and Attachment B point out the instances where the proposed definitions vary from those used in prior Commission orders. Attachment B is provided on an informational basis only, to aid commenters in identifying revisions. Comments should only be addressed to the proposed EQR Data Dictionary in Attachment A.

11. The proposed EQR Data Dictionary revises the definitions provided in previous Commission orders for the following terms:

• ID Data: Company Name—Respondent (Field Number 2); Company Name—Seller (Field Number 2); Company Name—Agent (Field Number 2); Company DUNS Number—Respondent (Field Number 3); Company DUNS Number—Seller (Field Number 3); Company DUNS Number—Agent (Field Number 3); Contact Country Name (Field Number 10); and Filing Quarter (Field Number 13).

• Contract Data: Seller Company Name (Field Number 15); Customer Company Name (Field Number 16); Customer DUNS Number (Field Number 17); Contract Affiliate (Field Number 18); FERC Tariff Reference (Field Number 19); Contract Service Agreement ID (Field Number 20); Contract Execution Date (Field Number 21); Contract Commencement Date (Field Number 22); Contract Termination Date (Field Number 23); Extension Provision Description (Field Number 25); Term Name (Field Number 27); Product Name (Field Number 31); Quantity (Field Number 32); Units (Field Number 33); Rate (Field Number 34); Rate Units (Field Number 38); Point of Receipt Balancing Authority (Field Number 39); Point of Receipt Specific Location (Field Number 40); Point of Delivery Balancing Authority (Field Number 41); Point of Delivery Specific Location (Field Number 42); Begin Date (Field Number 43); and End Date (Field Number 44).

• Transaction Data: Seller Company Name (Field Number 47); Customer Company Name (Field Number 48); Customer DUNS Number (Field Number 49); FERC Tariff Reference (Field Number 50); Contract Service Agreement ID (Field Number 51); Transaction Begin Date (Field Number 53); Transaction End Date (Field Number 54); Point of Delivery Balancing Authority (Field Number 56); Point of Delivery Specific Location (Field Number 57); Term Name (Field Number 59); Product Name (Field Number 62); Transaction Quantity (Field Number 62); Price (Field Number 64); Rate Units (Field Number 65); Total Transmission Charge (Field Number 66); and Total Transaction Charge (Field Number 67).

12. The proposed EQR Data Dictionary also adds definitions for terms not previously defined by Commission order, including:

• ID Data: Filer Unique Identifier (Field Number 1).

• Contract Data: Contract Unique ID (Field Number 14); Class Name (Field Number 26); Increment Name (Field Number 28); Increment Peaking Name (Field Number 29); Product Type Name (Field Number 30); and Time Zone (Field Number 45).

• Transaction Data: Transaction Unique ID (Field Number 46); Time Zone (Field Number 55); Class Name (Field Number 58); Increment Name (Field Number 60); and Increment Peaking Name (Field Number 61).

13. The proposed EQR Data Dictionary makes the following key revisions to the existing EQR definitions:

• The definitions of the identifiers used at the beginning of each record in the comma-delimited import files (Field Numbers 1, 14 and 60) have been expanded to clarify their function.

• The definitions of the ID Data fields have been expanded to link each of the fields to the appropriate filer identified in Field Numbers 1 and 2.

• The definition of “FERC Tariff Reference” reported in the Contract Data (Field Number 19) and Transaction Data (Field Number 50) permits references other than the filing company's own FERC tariff where sales occur under Commission-approved, cost-based rate schedules for certain power pools.

• The definition of “Contract Service Agreement ID” reported in the Contract Data (Field Number 20) and in the Transaction Data (Field Number 51) allows an “internal identification system” as opposed to a “numbering” system to allow for the inclusion of non-numeric characters in the identifiers.

• The definitions of “Class Name, F-Firm” and “Class Name, NF-Non-Firm” reported in the Contract Data (Field Number 26) and the Transaction Data (Field Number 58) provide two definitions, to differentiate between firm transmission service and firm power sales.¹¹

¹¹ These definitions are intended to be consistent with NERC and the pro forma Open Access Transmission Tariff (OATT) definitions and Commission precedent. See, e.g., Preventing Undue Discrimination and Preference in Transmission Service, Order No. 890, 72 FR 12266 (Mar. 15, 2007), FERC Stats. & Regs. ¶ 31,241 at P 1452-55, P 1539 and P 1688-92 (Feb. 16, 2007) (Order No. 890). However, as explained below, infra P 21, these definitions only govern the manner in which these items are reported in the EQR.

• The definitions of the allowable entries for “Term Name” reported in the Contract Data (Field Number 27) and in the Transaction Data (Field Number 59) are being expanded. While EQR filers have indicated a preference that the definitions for power sales and transmission be differentiated, the Commission is striving to create consistency for uses of “long term” and “short term,” across its programs.¹² Therefore, we propose to define “Term Name” in the same way for both power and transmission sales.

¹² See Market-Based Rates for Wholesale Sales of Electric Energy, Capacity and Ancillary Services by Public Utilities, notice of proposed rulemaking, 71 FR 33102 (Jun. 7, 2006), FERC Stats. & Regs. ¶ 32,602 at P 137 (May 19, 2006). Also, the Commission is aware of inconsistencies in these definitions with the FERC Form 1 and is in the process of reviewing comments in Assessments of Information Requirements for FERC Financial Forms, notice of inquiry, 72 FR 8316 (Feb. 15, 2007).

• The definitions of “Increment Peaking Name, OP-Off-Peak” and “Increment Peaking Name, P-Peak” reported in the Contract Data (Field Number 29) and the Transaction Data (Field Number 61) specify that the “relevant NERC region” was the “NERC region of the point of delivery.”

• The definition of “Increment Peaking Name, N/A-Not Applicable” in the Contract Data (Field Number 29) indicates that “N/A” is an acceptable entry if the contract does not specify the increment peaking period for the sale. The definition of “Increment Peaking Name, N/A-Not Applicable” in the Transaction Data (Field Number 61) indicates that “N/A” is an acceptable entry only when other available increment peaking names do not apply. “N/A” will not be acceptable for products such as “Energy,” “Booked Out Power,” “Capacity,” or “Ancillary Services.”

• The definitions of “Product Type Name, CB-Cost-Based” and “Product Type Name, MB-Market-Based” reported in the Contract Data (Field Number 30) specify “energy or capacity sold” under the seller's FERC-approved tariffs. This change allows filers to differentiate these product types from “Product Type Name, T-Transmission,” which applies to cost-based or market-based transmission-related services.

• The definition of “Product Type Name, S-Service” in the Contract Data (Field Number 30) has been deleted to remove ambiguity regarding the types of products that must be reported.

• The name and definition of “Point of Receipt Control Area” reported in the Contract Data (Field Number 39) has been revised to “Point of Receipt Balancing Authority” in response to changes in terminology implemented by NERC beginning April 1, 2005.

• The name and definition of “Point of Delivery Control Area” reported in the Contract Data (Field Number 41) and in the Transaction Data (Field Number 56) has been revised to “Point of Delivery Balancing Authority” in response to changes in terminology implemented by NERC beginning April 1, 2005.

• The continued requirement to fill certain Contract Data fields—Contract Termination Date (Field Number 23); Quantity (Field Number 32); Units (Field Number 33); Rate Units (Field Number 38); Point of Receipt Balancing Authority (PORBA) (Field Number 39); Point of Receipt Specific Location (PORSL) (Field Number 40); Point of Delivery Balancing Authority (PODBA) (Field Number 41); Point of Delivery Specific Location (PODSL) (Field Number 42); Begin Date (Field Number 43) and End Date (Field Number 44)—has been clarified to be contract-specific. The EQR may still be filed if these fields are left empty, but the public utility has the obligation to complete the fields if the relevant terms are included in the contract.¹³

¹³ As pointed out above, supra note 1, to be consistent with NERC terminology, the proposed Data Dictionary uses the field name “PORBA” (previously “PORCA” and “PODBA” (previously “PODCA”).

• The “Product Name” (Attachment A, Appendix A) in the Contract Data (Field Number 31), “Capacity Reassignment,” has been added to address a new EQR reporting requirement required by Order No. 890.¹⁴

¹⁴ See Order No. 890, FERC Stats. & Regs. ¶ 31,241 at note 499.

• The “Product Names” (Attachment A, Appendix A) in the Contract Data (Field Number 31), “Regulation & Frequency Response,” “Spinning Reserve,” and “Supplemental Reserve” have been modified to address changes in the OATT in Order No. 890.

• The “Product Name” (Attachment A, Appendix A) in the Contract Data (Field Number 31), “Exchange Agreement,” has been revised to “Exchange” and incorporated into the allowable product names in the Transaction Data (Field Number 62). This change will make it easier to identify sales under exchange agreements and adjust for their effects when reviewing product prices.

• The “Product Name” (Attachment A, Appendix A) in the Contract Data (Field Number 31 and Field Number 62), “Transmission Owners Agreement,” has been revised to expand the definition beyond agreements with ISOs.

14. Two fields merit specific discussion. The Increment Name fields (Field Number 28 of the Contract Data and Field Number 60 of the Transaction Data) are intended to provide insight into the duration of the agreement under which a sale is being made. To compare sales in the EQR appropriately, we must be able to understand the duration of the underlying transaction that resulted in each sale. On a single day in a given market, prices for power under terms set at the beginning of a month may differ from hourly prices determined through an RTO or ISO in its real time market. The Increment Name fields provide a basis to understand price differentiation among otherwise similarly situated sales.

15. The proposed EQR Data Dictionary includes definitions of Increment Names that offer more clarity and allow the fields to be automatically calculated. These definitions lay out specific time periods for each of the restricted values.

16. Deals covering peak periods or off-peak periods (as identified in the Increment Peaking Name fields) are commonly characterized as daily, rather than as hourly transactions, even though they last less than 24 hours.¹⁵ For this reason, the proposed EQR Data Dictionary defines “D-Daily” transactions as those under deals that last over six and up to and including thirty-six hours to ensure that both peak and off-peak blocks for a single day are included.

¹⁵ These deals would be reported in Field Number 29 of Contract Data and in Field Number 61 of Transaction Data.

17. Hourly deals, such as sales to ISOs, are characterized with terms shorter than the daily deals. Under the proposed EQR Data Dictionary deals of up to, and including, six hours would be reported as “H-Hourly.”

18. Transactions that cover blocks of hours over the course of a week (commonly identified in the industry by such terms as “5x16” or “2x24”) are characterized as weekly transactions.¹⁶ Sales under deals of over 36 and up to and including 168 hours (seven days) are defined in the proposed EQR Data Dictionary as “W-Weekly” deals. Deals over a week (168 hours) and up to and including one month would be reported as “M-Monthly.” Deals of a year or more (including sales where precise terms are set in a long-term contract) will be reported as “Y-Yearly.” We also propose a new “S-Seasonal” value to be used to characterize power sales that are made for longer than one month but less than a year, such as sales for the duration of a peak season.

¹⁶ “5x16” (5 days × 16 hours) refers to a peak hour weekly deal and “2 × 24” (2 days x 24 hours) refers to a weekend deal.

19. In the Contracts tab, the Increment Name field (Field Number 28) has descriptive value for those contracts that lay out the specific terms (price, quantity, and period) of the arrangement. Contracts that do not contain these specific terms should be described using “N/A.”

20. Also, in Order No. 890, the Commission addressed the issue of what constitutes a sufficient level of firmness to be eligible for designation as a network resource.¹⁷ We invite comments on whether the definitions of Class Names, “Firm” and “Non-Firm” (Field Numbers 26 and 58), need revision.

¹⁷ See Order No. 890, FERC Stats. & Regs. ¶ 31,241 at P 1452-55.

21. Subject to our review of any comments filed in response to this notice, the Commission plans to adopt the EQR Data Dictionary shown in Attachment A to this notice. We expect that these definitions would take effect the first day of the first new quarter after issuance of a Final Order. We caution that the definitions we are proposing in the EQR Data Dictionary are only intended to govern the manner in which these items are reported in the EQR and are not intended to be precedent in other contexts.

Comment Procedures

22. The Commission invites interested persons to submit comments on the matters and issues proposed in this notice, including any related matters or alternative proposals that commenters may wish to discuss. Comments are due June 7, 2007. Comments must refer to Docket No. RM01-8-006, and must include the commenter's name, the organization they represent, if applicable, and their address. Comments may be filed either in electronic or paper format.

23. Comments may be filed electronically via the eFiling link on the Commission's Web site at http://www.ferc.gov. The Commission accepts most standard word processing formats and commenters may attach additional files with supporting information in certain other file formats. Commenters filing electronically do not need to make a paper filing. Commenters that are not able to file comments electronically must send an original and 14 copies of their comments to: Federal Energy Regulatory Commission, Secretary of the Commission, 888 First Street NE., Washington, DC 20426.

24. All comments will be placed in the Commission's public files and may be viewed, printed, or downloaded remotely as described in the Document Availability section below. Commenters on this proposal are not required to serve copies of their comments on other commenters.

Document Availability

25. In addition to publishing the full text of this document in the Federal Register, the Commission provides all interested persons an opportunity to view and/or print the contents of this document via the Internet through the Commission's Home Page (http://www.ferc.gov) and in the Commission's Public Reference Room during normal business hours (8:30 a.m. to 5 p.m. Eastern time) at 888 First Street, NE., Room 2A, Washington, DC 20426.

26. From the Commission's Home Page on the Internet, this information is available in the eLibrary. The full text of this document is available in the eLibrary both in PDF and Microsoft Word format for viewing, printing, and/or downloading. To access this document in eLibrary, type the docket number excluding the last three digits of this document in the docket number field.

User assistance is available for eLibrary and the Commission's website during our normal business hours. For assistance contact FERC Online Support at FERCOnlineSupport@ferc.gov or toll-free at (866) 208-3676, or for TTY, contact (202) 502-8659.

By direction of the Commission.
Kimberly D. Bose,
Secretary.

Note: The following attachments (A) and (B) will not appear in the Code of Federal Regulation.

Attachment A

Electric Quarterly Report Data Dictionary

Version 1.0 (issued —)

EQR Data Dictionary
[ID Data]
Field No. | Field | Required | Value | Definition
1 | Filer Unique Identifier | ✓ | FR1 | (Respondent)—An identifier (i.e., “FR1”) used to designate a record containing Respondent identification information in a comma-delimited (csv) file that is imported into the EQR filing. Only one record with the FR1 identifier may be imported into an EQR for a given quarter.
1 | Filer Unique Identifier | ✓ | FS# (where “#” is an integer) | (Seller)—An identifier (e.g., “FS1”, “FS2”) used to designate a record containing Seller identification information in a comma-delimited (csv) file that is imported into the EQR filing. One record for each seller company may be imported into an EQR for a given quarter.
1 | Filer Unique Identifier | ✓ | FA1 | (Agent)—An identifier (i.e., “FA1”) used to designate a record containing Agent identification information in a comma-delimited (csv) file that is imported into the EQR filing. Only one record with the FA1 identifier may be imported into an EQR for a given quarter.
2 | Company Name | ✓ | Unrestricted text (70 characters) | (Respondent)—The name of the company taking responsibility for complying with the Commission's regulations related to the EQR.
2 | Company Name | ✓ | Unrestricted text (70 characters) | (Seller)—The name of the company that is authorized to make sales as indicated in the company's FERC tariff(s). This name may be the same as the Company Name of the Respondent.
2 | Company Name | ✓ | Unrestricted text (70 characters) | (Agent)—The name of the entity completing the EQR filing. The Agent's Company Name need not be the name of the company under Commission jurisdiction.
3 | Company DUNS Number | For Respondent and Seller | Nine digit number | The unique nine digit number assigned by Dun and Bradstreet to the company identified in Field Number 2.
4 | Contact Name | ✓ | Unrestricted text (50 characters) | (Respondent)—Name of the person at the Respondent's company taking responsibility for compliance with the Commission's EQR regulations.
4 | Contact Name | ✓ | Unrestricted text (50 characters) | (Seller)—The name of the contact for the company authorized to make sales as indicated in the company's FERC tariff(s). This name may be the same as the Contact Name of the Respondent.
4 | Contact Name | ✓ | Unrestricted text (50 characters) | (Agent)—Name of the contact for the Agent, usually the person who prepares the filing.
5 | Contact Title | ✓ | Unrestricted text (50 characters) | Title of contact identified in Field Number 4.
6 | Contact Address | ✓ | Unrestricted text | Street address for contact identified in Field Number 4.
7 | Contact City | ✓ | Unrestricted text (30 characters) | City for the contact identified in Field Number 4.
8 | Contact State | ✓ | Unrestricted text (2 characters) | Two character state or province abbreviations for the contact identified in Field Number 4.
9 | Contact Zip | ✓ | Unrestricted text (10 characters) | Zip code for the contact identified in Field Number 4.
10 | Contact Country Name | ✓ | CA-Canada, MX-Mexico, US-United States, UK-United Kingdom | Country (USA, Canada, Mexico, or United Kingdom) for contact address identified in Field Number 4.
11 | Contact Phone | ✓ | Unrestricted text (20 characters) | Phone number of contact identified in Field Number 4.
12 | Contact E-Mail | ✓ | Unrestricted text | E-mail address of contact identified in Field Number 4.
13 | Filing Quarter | ✓ | YYYYMM | A six digit reference number used by the EQR software to indicate the quarter and year of the filing for the purpose of importing data from csv files. The first 4 numbers represent the year (e.g., 2007). The last 2 numbers represent the last month of the quarter (e.g., 03 = 1st quarter; 06 = 2nd quarter, 09 = 3rd quarter, 12 = 4th quarter).
14 | Contract Unique ID | ✓ | An integer proceeded by the letter “C” (only used when importing contract data) | An identifier beginning with the letter “C” and followed by a number (e.g., “C1”, “C2”) used to designate a record containing contract information in a comma-delimited (csv) file that is imported into the EQR filing. One record for each contract product may be imported into an EQR for a given quarter.
15 | Seller Company Name | ✓ | Unrestricted text (70 characters) | The name of the company that is authorized to make sales as indicated in the company's FERC tariff(s). This name must match the name provided as a Seller's “Company Name” in Field Number 2 of the ID Data (Seller Data).
16 | Customer Company Name | ✓ | Unrestricted text (70 characters) | The name of the counterparty to the contract.
17 | Customer DUNS Number | ✓ | Nine digit number | The unique nine digit number assigned by Dun and Bradstreet to the company identified in Field Number 16.
18 | Contract Affiliate | ✓ | Y (Yes) N (No) | The customer is an affiliate if it controls, is controlled by or is under common control with the seller. This includes a division that operates as a functional unit. A customer of a seller who is an Exempt Wholesale Generator may be defined as an affiliate under the Public Utility Holding Company Act and the FPA.
19 | FERC Tariff Reference | ✓ | Unrestricted text (60 characters) | The FERC tariff reference cites the document that specifies the terms and conditions under which a Seller is authorized to make transmission sales or power sales at cost-based rates or at market-based rates. If the sales are market-based, the tariff that is specified in the FERC order granting the Seller Market Based Rate Authority must be listed.
20 | Contract Service Agreement ID | ✓ | Unrestricted text (30 characters) | Unique identifier given to each service agreement that can be used by the filing company to produce the agreement, if requested. The identifier may be the number assigned by FERC for those service agreements that have been filed with and accepted by the Commission, or it may be generated as part of an internal identification system.
21 | Contract Execution Date | ✓ | YYYYMMDD | The date the contract was signed. If the parties signed on different dates, or there are contract amendments, use the most recent date signed.
22 | Contract Commencement Date | ✓ | YYYYMMDD | The date the contract was effective. If it is not specified in the contract, the first date of service under the contract.
23 | Contract Termination Date | If specified in the contract | YYYYMMDD | The date that the contract expires.
24 | Actual Termination Date | If contract terminated | YYYYMMDD | The date the contract actually terminates.
25 | Extension Provision Description | ✓ | Unrestricted text | Description of terms that provide for the continuation of the contract.
26 | Class Name | ✓ |  | See definitions of each class name below.
26 | Class Name | ✓ | F—Firm | For transmission sales, service or product that always has priority over non-firm service. For power sales, service or product that is not interruptible for economic reasons.
26 | Class Name | ✓ | NF—Non-firm | For transmission sales, service that is reserved and/or scheduled on an as-available basis and is subject to curtailment or interruption at a lesser priority compared to firm service. An energy sale for which delivery or receipt of the energy may be interrupted for any reason or no reason, without liability on the part of either the buyer or seller.
26 | Class Name | ✓ | UP—Unit Power Sale | Designates a dedicated sale of energy and capacity from one or more than one generation unit(s).
26 | Class Name | ✓ | N/A—Not Applicable | To be used only when the other available Class Names do not apply.
27 | Term Name | ✓ | LT—Long Term, ST—Short Term, N/A—Not Applicable | Contracts with durations of one year or greater are long-term. Contracts with shorter durations are short-term.
28 | Increment Name | ✓ |  | See definitions for each increment below.
28 | Increment Name | ✓ | H—Hourly | Terms of the contract (if specifically noted in the contract) set for up to 6 consecutive hours (= 6 consecutive hours).
28 | Increment Name | ✓ | D—Daily | Terms of the contract (if specifically noted in the contract) set for more than 6 and up to 36 consecutive hours (≤6 and = 36 consecutive hours).
28 | Increment Name | ✓ | W—Weekly | Terms of the contract (if specifically noted in the contract) set for over 36 consecutive hours and up to 168 consecutive hours (≤36 and = 168 consecutive hours).
28 | Increment Name | ✓ | M—Monthly | Terms of the contract (if specifically noted in the contract) set for more than 168 consecutive hours up to one month (>168 consecutive hours and ≤ 1 month).
28 | Increment Name | ✓ | Y—Yearly | Terms of the contract (if specifically noted in the contract) set for one year or more (≥1 year).
28 | Increment Name | ✓ | S—Seasonal | Terms of the contract (if specifically noted in the contract) set for greater than one month and less than 365 consecutive days (> 1 month and < 1 year).
28 | Increment Name | ✓ | N/A—Not Applicable | Terms of the contract do not specify an increment.
29 | Increment Peaking Name | ✓ |  | See definitions for each increment peaking name below.
29 | Increment Peaking Name | ✓ | FP—Full Period | The product described may be sold during all hours under the contract.
29 | Increment Peaking Name | ✓ | OP—Off-Peak | The product described may be sold only during those hours designated as off-peak in the NERC region of the point of delivery.
29 | Increment Peaking Name | ✓ | P—Peak | The product described may be sold only during those hours designated as on-peak in the NERC region of the point of delivery.
29 | Increment Peaking Name | ✓ | N/A—Not Applicable | To be used only when the increment peaking name is not specified in the contract.
30 | Product Type Name | ✓ |  | See definitions for each product type below.
30 | Product Type Name | ✓ | CB—Cost Based | Energy or capacity sold under a FERC-approved cost-based rate tariff.
30 | Product Type Name | ✓ | MB—Market Based | Energy sold under the seller's FERC-approved market-based rate tariff.
30 | Product Type Name | ✓ | T—Transmission | The product is sold under a FERC-approved transmission tariff.
30 | Product Type Name | ✓ | Other | The product cannot be characterized by the other product type names.
31 | Product Name | ✓ | See Product Name Table, Appendix A. | Description of product being offered.
32 | Quantity | If specified in the contract | Number with up to 4 decimals | Quantity for the contract product identified.
33 | Units | If specified in the contract | See Units Table, Appendix E | Measure stated in the contract for the product sold.
34 | Rate | One of four rate fields (34, 35, 36, or 37) must be included | Number with up to 4 decimals | The charge for the product per unit as stated in the contract.
35 | Rate Minimum | One of four rate fields (34, 35, 36, or 37) must be included | Number with up to 4 decimals | Minimum rate to be charged per the contract, if a range is specified.
36 | Rate Maximum | One of four rate fields (34, 35, 36, or 37) must be included | Number with up to 4 decimals | Maximum rate to be charged per the contract, if a range is specified.
37 | Rate Description | One of four rate fields (34, 35, 36, or 37) must be included | Unrestricted text | Text description of rate. May reference FERC tariff, or, if a discounted or negotiated rate, include algorithm.
38 | Rate Units | If specified in the contract | See Rate Units Table, Appendix F | Measure stated in the contract for the product sold.
39 | Point of Receipt Balancing Authority (PORBA) | If specified in the contract | See Balancing Authority Table, Appendix B | The registered NERC Balancing Authority (formerly called NERC Control Area) abbreviation used in OASIS applications or “Hub” if point of receipt is at a restricted trading hub.
40 | Point of Receipt Specific Location (PORSL) | If specified in the contract | Unrestricted text (50 characters). If “HUB” is selected for PORCA, see Hub Table, Appendix C | The specific location at which the product is received if designated in the contract. If receipt occurs at a trading hub, a standardized hub name must be used.
41 | Point of Delivery Balancing Authority(PODBA) | If specified in the contract | See Balancing Authority Table, Appendix B | The registered NERC Balancing Authority (formerly called NERC Control Area) abbreviation used in OASIS applications or “Hub” if point of receipt is at a restricted trading hub.
42 | Point of Delivery Specific Location (PODSL) | If specified in the contract | Unrestricted text (50 characters). If “HUB” is selected for PODCA, see Hub Table, Appendix C | The specific location at which the product is delivered if designated in the contract. If receipt occurs at a trading hub, a standardized hub name must be used.
43 | Begin Date | If specified in the contract | YYYYMMDDHHMM | First date for the sale of the product at the rate specified.
44 | End Date | If specified in the contract | YYYYMMDDHHMM | Last date for the sale of the product at the rate specified.
45 | Time Zone | ✓ | See Time Zone Table, Appendix D | The time zone in which the sales will be made under the contract.

EQR Data Dictionary
[Transaction Data]
Field No. | Field | Required | Value | Definition
46 | Transaction Unique ID | ✓ | An integer proceeded by the letter “T” (only used when importing transaction data) | An identifier beginning with the letter “T” and followed by a number (e.g. “T1”, “T2”) used to designate a record containing transaction information in a comma-delimited (csv) file that is imported into the EQR filing. One record for each transaction record may be imported into an EQR for a given quarter. A new transaction record must be used every time a price changes in a sale.
47 | Seller Company Name | ✓ | Unrestricted text (70 Characters) | The name of the company that is authorized to make sales as indicated in the company's FERC tariff(s). This name must match the name provided as a Seller's “Company Name” in Field 2 of the ID Data (Seller Data).
48 | Customer Company Name | ✓ | Unrestricted text (70 Characters) | The name of the counterparty to the contract.
49 | Customer DUNS Number | ✓ | Nine digit number | The unique nine digit number assigned by Dun and Bradstreet to the counterparty to the contract.
50 | FERC Tariff Reference | ✓ | Unrestricted text (60 Characters) | The FERC tariff reference cites the document that specifies the terms and conditions under which a Seller is authorized to make transmission sales or power sales at cost-based rates or at market-based rates. If the sales are market-based, the tariff that is specified in the FERC order granting the Seller Market Based Rate Authority must be listed.
51 | Contract Service Agreement ID | ✓ | Unrestricted text (30 Characters) | Unique identifier given to each service agreement that can be used by the filing company to produce the agreement, if requested. The identifier may be the number assigned by FERC for those service agreements that have been filed and approved by the Commission, or it may be generated as part of an internal identification system.
52 | Transaction Unique Identifier | ✓ | Unrestricted text (24 Characters) | Unique reference number assigned by the seller for each transaction.
53 | Transaction Begin Date | ✓ | YYYYMMDDHHMM (csv import) | First date and time the product is sold during the quarter at the specified price.
|  |  | MMDDYYYYHHMM (manual entry)
54 | Transaction End Date | ✓ | YYYYMMDDHHMM (csv import) | Last date and time the product is sold during the quarter at the specified price.
|  |  | MMDDYYYYHHMM (manual entry)
55 | Time Zone | ✓ | See Time Zone Table, Appendix D | The time zone in which the sales will be made under the contract.
56 | Point of Delivery Balancing Authority (PODBA) | ✓ | See Balancing Authority Table, Appendix B | The registered NERC Balancing Authority (formerly called NERC Control Area) abbreviation used in OASIS applications.
57 | Point of Delivery Specific Location (PODSL) | ✓ | Unrestricted text (50 characters). If “HUB” is selected for PODBA, see Hub Table, Appendix C | The specific location at which the product is delivered. If receipt occurs at a trading hub, a standardized hub name must be used.
58 | Class Name | ✓ |  | See class name definitions below.
58 | Class Name | ✓ | F—Firm | For transmission sales, service or product that always has priority over non-firm service. For power sales, service or product that is not interruptible for economic reasons.
58 | Class Name | ✓ | NF—Non-firm | For transmission sales, service that is reserved and/or scheduled on an as-available basis and is subject to curtailment or interruption at a lesser priority compared to firm transmission service. An energy sale for which delivery or receipt of the energy may be interrupted for any reason or no reason, without liability on the part of either the buyer or seller.
58 | Class Name | ✓ | UP—Unit Power Sale | Designates a dedicated sale of energy and capacity from one or more than one generation unit(s).
58 | Class Name | ✓ | BA—Billing Adjustment | Incremental positive or negative material change to previous EQR totals.
58 | Class Name | ✓ | N/A—Not Applicable | To be used only when the other available class names do not apply.
59 | Term Name | ✓ | LT—Long Term, ST—Short Term, N/A—Not Applicable | Power sales transactions with durations of one year or greater are long-term. Transactions with shorter durations are short-term.
60 | Increment Name | ✓ |  | See increment name definitions below.
60 | Increment Name | ✓ | H—Hourly | Terms of the particular sale set for up to 6 consecutive hours (≤ 6 consecutive hours) Includes LMP based sales in ISO/RTO markets.
60 | Increment Name | ✓ | D—Daily | Terms of the particular sale set for more than 6 and up to 36 consecutive hours (> 6 and ≤ 36 consecutive hours) Includes sales over a peak or off-peak block during a single day.
60 | Increment Name | ✓ | W—Weekly | Terms of the particular sale set for over 36 consecutive hours and up to 168 consecutive hours (> 36 and ≤ 168 consecutive hours). Includes sales for a full week and sales for peak and off-peak blocks over a particular week.
60 | Increment Name | ✓ | M—Monthly | Terms of the particular sale set for more than 168 consecutive hours up to one month (> 168 consecutive hours and ≤ 1 month). Includes sales for full month or multi-week sales during a given month.
60 | Increment Name | ✓ | S—Seasonal | Terms of the specific sales set for greater than one month and less than 365 consecutive days (> 1 month and < 1 year).
60 | Increment Name | ✓ | Y—Yearly | Terms of the particular sale set for one year or more (≥ 1 year). Includes all long-term contracts with defined pricing terms (fixed-price, formula, or index).
60 | Increment Name | ✓ | N/A—Not Applicable | To be used only when other available increment names do not apply.
61 | Increment Peaking Name | ✓ | See definitions for increment peaking below
61 | Increment Peaking Name | ✓ | FP—Full Period | The product described may be sold during all hours under the contract.
61 | Increment Peaking Name | ✓ | OP—Off-Peak | The product described may be sold only during those hours designated as off-peak in the NERC region of the point of delivery.
61 | Increment Peaking Name | ✓ | P—Peak | The product described may be sold only during those hours designated as on-peak in the NERC region of the point of delivery.
61 | Increment Peaking Name | ✓ | N/A—Not Applicable | To be used only when the other available increment peaking names do not apply.
62 | Product Name | ✓ | See Product Names Table, Appendix A | Description of product being offered.
63 | Transaction Quantity | ✓ | Number with up to 4 decimals | The quantity of the product in this transaction.
64 | Price | ✓ | Number with up to 6 decimals | Price charged for the product per unit.
65 | Rate Units | ✓ | See Rate Units Table, Appendix F | Measure appropriate to the price of the product sold.
66 | Total Transmission Charge | ✓ | Number with up to 2 decimals | Payments received for transmission services when explicitly identified.
67 | Total Transaction Charge | ✓ | Number with up to 2 decimals | Transaction Quantity (Field 63) times Price (Field 64) plus Total Transmission Charge (Field 66).

EQR Data Dictionary
[Appendix A. Product Names]
Product name | Contract product | Transaction product | Definition
BLACK START SERVICE | ✓ | ✓ | Service available after a system-wide blackout where a generator participates in system restoration activities without the availability of an outside electric supply (Ancillary Service).
BOOKED OUT POWER |  | ✓ | Energy or capacity contractually committed bilaterally for delivery but not actually delivered due to some offsetting or countervailing trade (Transaction only).
CAPACITY | ✓ | ✓ | A quantity of demand that is charged on a $/KW or $/MW basis.
CAPACITY REASSIGNMENT | ✓ |  | An agreement under which a transmission customer sells, assigns or transfers all or portion of its rights to an eligible customer.
CUSTOMER CHARGE | ✓ | ✓ | Fixed contractual charges assessed on a per customer basis that could include billing service.
DIRECT ASSIGNMENT FACILITIES CHARGE | ✓ |  | Charges for facilities or portions of facilities that are constructed or used for the sole use/benefit of a particular customer.
EMERGENCY ENERGY | ✓ |  | Contractual provisions to supply energy or capacity to another entity during critical situations.
ENERGY | ✓ | ✓ | A quantity of electricity that is sold or transmitted over a period of time.
ENERGY IMBALANCE | ✓ | ✓ | Service provided when a difference occurs between the scheduled and the actual delivery of energy to a load obligation.
EXCHANGE | ✓ | ✓ | (Previously “Exchange Agreement”). Transaction whereby the receiver accepts delivery of energy for a supplier's account and returns energy later at times, rates, and in amounts as mutually agreed.
FUEL CHARGE | ✓ | ✓ | Charge based on the cost or amount of fuel used for generation.
GRANDFATHERED BUNDLED | ✓ | ✓ | Services provided for bundled transmission, ancillary services and energy under contracts effective prior to Order No. 888's OATTs.
INTERCONNECTION AGREEMENT | ✓ |  | Contract that provides the terms and conditions for a generator, distribution system owner, transmission owner, transmission provider, or transmission system to physically connect to a transmission system or distribution system.
MEMBERSHIP AGREEMENT | ✓ |  | Agreement to participate and be subject to rules of a system operator.
MUST RUN AGREEMENT | ✓ |  | An agreement that requires a unit to run.
NEGOTIATED-RATE TRANSMISSION | ✓ | ✓ | Transmission performed under a negotiated rate contract (applies only to merchant transmission companies).
NETWORK | ✓ |  | Transmission service under contract providing network service.
NETWORK OPERATING AGREEMENT | ✓ |  | An executed agreement that contains the terms and conditions under which a network customer operates its facilities and the technical and operational matters associated with the implementation of network integration transmission service.
OTHER | ✓ | ✓ | Product name not otherwise included.
POINT-TO-POINT AGREEMENT | ✓ |  | Transmission service under contract between specified Points of Receipt and Delivery.
REACTIVE SUPPLY & VOLTAGE CONTROL | ✓ | ✓ | Production or absorption of reactive power to maintain voltage levels on transmission systems (Ancillary Service).
REAL POWER TRANSMISSION LOSS | ✓ | ✓> | The loss of energy, resulting from transporting power over a transmission system.
REGULATION & FREQUENCY RESPONSE | ✓ | ✓ | Service providing for continuous balancing of resources (generation and interchange) with load, and for maintaining scheduled interconnection frequency by committing on-line generation where output is raised or lowered and by other non-generation resources capable of providing this service as necessary to follow the moment-by-moment changes in load (Ancillary Service).
REQUIREMENTS SERVICE | ✓ | ✓ | Firm, load-following power supply necessary to serve a specified share of customer's aggregate load during the term of the agreement. Requirements service may include some or all of the energy, capacity and ancillary service products. (If the components of the requirements service are priced separately, they should be reported separately in the transactions tab.)
SCHEDULE SYSTEM CONTROL & DISPATCH | ✓ | ✓ | Scheduling, confirming and implementing an interchange schedule with other Balancing Authorities, including intermediary Balancing Authorities providing transmission service, and ensuring operational security during the interchange transaction (Ancillary Service).
SPINNING RESERVE | ✓ | ✓ | Unloaded synchronized generating capacity that is immediately responsive to system frequency and that is capable of being loaded in a short time period or non-generation resources capable of providing this service (Ancillary Service).
SUPPLEMENTAL RESERVE | ✓ | ✓ | Service needed to serve load in the event of a system contingency, available with greater delay than SPINNING RESERVE. This service may be provided by generating units that are on-line but unloaded, by quick-start generation, or by interruptible load or other non-generation resources capable of providing this service (Ancillary Service).
SYSTEM OPERATING AGREEMENTS | ✓ | ✓ | An executed agreement that contains the terms and conditions under which a system or network customer shall operate its facilities and the technical and operational matters associated with the implementation of network.
TOLLING ENERGY | ✓ | ✓ | Energy sold from a plant whereby the buyer provides fuel to a generator (seller) and receives power in return for pre-established fees.
TRANSMISSION OWNERS AGREEMENT | ✓ |  | The agreement that establishes the terms and conditions under which a transmission owner transfers operational control over designated transmission facilities.
UPLIFT | ✓ | ✓ | A make-whole payment by an RTO/ISO to a utility.

EQR Data Dictionary
[Appendix B. Balancing Authority]
Balancing authority | Abbreviation
AESC, LLC—Wheatland CIN | AEWC
Alabama Electric Cooperative, Inc. | AEC
Alberta Electric System Operator | AESO
Alliant Energy Corporate Services, LLC—East | ALTE
Alliant Energy Corporate Services, LLC—West | ALTW
Ameren Transmission | AMRN
Ameren Transmission. Illinois | AMIL
Ameren Transmission. Missouri | AMMO
American Transmission Systems, Inc. | FE
Aquila Networks—Kansas | WPEK
Aquila Networks—Missouri Public Service | MPS
Aquila Networks—West Plains Dispatch | WPEC
Arizona Public Service Company | AZPS
Associated Electric Cooperative, Inc. | AECI
Avista Corp. | AVA
Batesville Balancing Authority | BBA
Big Rivers Electric Corp. | BREC
Board of Public Utilities | KACY
Bonneville Power Administration Transmission | BPAT
California Independent System Operator | CISO
Carolina Power & Light Company—CPLW | CPLW
Carolina Power and Light Company—East | CPLE
Central and Southwest | CSWS
Central Illinois Light Co | CILC
Chelan County PUD | CHPD
Cinergy Corporation | CIN
City of Homestead | HST
City of Independence P&L Dept. | INDN
City of Tallahassee | TAL
City Water Light & Power | CWLP
Cleco Power LLC | CLEC
Columbia Water & Light | CWLD
Comision Federal de Electricidad | CFE
Constellation Energy Control and Dispatch—Arkansas | PUPP
Constellation Energy Control and Dispatch—City of Benton, AR | BUBA
Constellation Energy Control and Dispatch—City of Ruston, LA | DERS
Constellation Energy Control and Dispatch—Conway, Arkansas | CNWY
Constellation Energy Control and Dispatch—Gila River | GRMA
Constellation Energy Control and Dispatch—Harquehala | HGMA
Constellation Energy Control and Dispatch—North Little Rock, AK | DENL
Constellation Energy Control and Dispatch—West Memphis, Arkansas | WMUC
Dairyland Power Cooperative | DPC
DECA, LLC—Arlington Valley | DEAA
Duke Energy Corporation | DUK
East Kentucky Power Cooperative, Inc. | EKPC
El Paso Electric | EPE
Electric Energy, Inc. | EEI
Empire District Electric Co., The | EDE
Entergy | EES
ERCOT ISO | ERCO
Florida Municipal Power Pool | FMPP
Florida Power & Light | FPL
Florida Power Corporation | FPC
Gainesville Regional Utilities | GVL
Georgia System Operations Corporation | GSOC
Georgia Transmission Corporation | GTC
Grand River Dam Authority | GRDA
Grant County PUD No. 2 | GCPD
Great River Energy | GRE
Great River Energy | GREC
Great River Energy | GREN
Great River Energy | GRES
GridAmerica | GA
Hoosier Energy | HE
Hydro-Quebec, TransEnergie | HQT
Idaho Power Company | IPCO
Illinois Power Co. | IP
Illinois Power Co. | IPRV
Imperial Irrigation District | IID
Indianapolis Power & Light Company | IPL
ISO New England Inc. | ISNE
JEA | JEA
Kansas City Power & Light, Co | KCPL
Lafayette Utilities System | LAFA
LG&E Energy Transmission Services | LGEE
Lincoln Electric System | LES
Los Angeles Department of Water and Power | LDWP
Louisiana Energy & Power Authority | LEPA
Louisiana Generating, LLC | LAGN
Madison Gas and Electric Company | MGE
MHEB, Transmission Services | MHEB
Michigan Electric Coordinated System | MECS
Michigan Electric Coordinated System—CONS | CONS
Michigan Electric Coordinated System—DECO | DECO
MidAmerican Energy Company | MEC
Midwest ISO | MISO
Minnesota Power, Inc. | MP
Montana-Dakota Utilities Co. | MDU
Muscatine Power and Water | MPW
Nebraska Public Power District | NPPD
Nevada Power Company | NEVP
New Brunswick Power Corporation | NBPC
New Horizons Electric Cooperative | NHC1
New York Independent System Operator | NYIS
North American Electric Reliability Council | TEST
Northern Indiana Public Service Company | NIPS
Northern States Power Company | NSP
NorthWestern Energy | NWMT
Ohio Valley Electric Corporation | OVEC
Oklahoma Gas and Electric | OKGE
Ontario—Independent Electricity Market Operator | IMO
OPPD CA/TP | OPPD
Otter Tail Power Company | OTP
P.U.D. No. 1 of Douglas County | DOPD
PacifiCorp—East | PACE
PacifiCorp—West | PACW
PJM Interconnection | PJM
Portland General Electric | PGE
Public Service Company of Colorado | PSCO
Public Service Company of New Mexico | PNM
Puget Sound Energy Transmission | PSEI
Reedy Creek Improvement District | RC
Sacramento Municipal Utility District | SMUD
Salt River Project | SRP
Santee Cooper | SC
SaskPower Grid Control Centre | SPC
Seattle City Light | SCL
Seminole Electric Cooperative | SEC
Sierra Pacific Power Co.—Transmission | SPPC
South Carolina Electric & Gas Company | SCEG
South Mississippi Electric Power Association | SME
South Mississippi Electric Power Association | SMEE
Southeastern Power Administration—Hartwell | SEHA
Southeastern Power Administration—Russell | SERU
Southeastern Power Administration—Thurmond | SETH
Southern Company Services, Inc. | SOCO
Southern Illinois Power Cooperative | SIPC
Southern Indiana Gas & Electric Co. | SIGE
Southern Minnesota Municipal Power Agency | SMP
Southwest Power Pool | SWPP
Southwestern Power Administration | SPA
Southwestern Public Service Company | SPS
Sunflower Electric Power Corporation | SECI
Tacoma Power | TPWR
Tampa Electric Company | TEC
Tennessee Valley Authority ESO | TVA
Trading Hub | HUB
TRANSLink Management Company | TLKN
Tucson Electric Power Company | TEPC
Turlock Irrigation District | TIDC
Upper Peninsula Power Co. | UPPC
Utilities Commission, City of New Smyrna Beach | NSB
Westar Energy—MoPEP Cities | MOWR
Western Area Power Administration—Colorado-Missouri | WACM
Western Area Power Administration—Lower Colorado | WALC
Western Area Power Administration—Upper Great Plains East | WAUE
Western Area Power Administration—Upper Great Plains West | WAUW
Western Farmers Electric Cooperative | WFEC
Western Resources dba Westar Energy | WR
Wisconsin Energy Corporation | WEC
Wisconsin Public Service Corporation | WPS
Yadkin, Inc. | YAD

EQR Data Dictionary
[Appendix C. Hub]
HUB | Definition
ADHUB | The aggregated Locational Marginal Price (“LMP”) nodes defined by PJM Interconnection, LLC as the AEP/Dayton Hub.
AEP (into) | The set of delivery points commonly identified as and agreed to by the counterparties to constitute delivery into the AEP balancing authority.
AEPGenHub | The aggregated Locational Marginal Price (“LMP”) nodes defined by PJM Interconnection, LLC as the AEPGenHub.
COB | The set of delivery points along the California-Oregon commonly identified as and agreed to by the counterparties to constitute the COB Hub.
Cinergy (into) | The set of delivery points commonly identified as and agreed to by the counterparties to constitute delivery into the Cinergy balancing authority.
Cinergy Hub (MISO) | The aggregated Elemental Pricing nodes (“Epnodes”) nodes defined by the Midwest Independent Transmission System Operator, Inc., as Cinergy Hub (MISO).
Comed (into) | The set of delivery points commonly identified as and agreed to by the counterparties to constitute delivery into the Commonwealth Edison balancing authority.
Entergy (into) | The set of delivery points commonly identified as and agreed to by the counterparties to constitute delivery into the Entergy balancing authority.
FE Hub | The aggregated Elemental Pricing nodes (“Epnodes”) nodes defined by the Midwest Independent Transmission System Operator, Inc., as FE Hub (MISO).
Four Corners | The set of delivery points at the Four Corners power plant commonly identified as and agreed to by the counterparties to constitute the Four Corners Hub.
Illinois Hub (MISO) | The aggregated Elemental Pricing nodes (“Epnodes”) nodes defined by the Midwest Independent Transmission System Operator, Inc., as Illinois Hub (MISO).
Mead | The set of delivery points at or near Hoover Dam commonly identified as and agreed to by the counterparties to constitute the Mead Hub.
Michigan Hub (MISO) | The aggregated Elemental Pricing nodes (“Epnodes”) nodes defined by the Midwest Independent Transmission System Operator, Inc., as Michigan Hub (MISO).
Mid-Columbia (Mid-C) | The set of delivery points along the Columbia River commonly identified as and agreed to by the counterparties to constitute the Mid-Columbia Hub.
Minnesota Hub (MISO) | The aggregated Elemental Pricing nodes (“Epnodes”) nodes defined by the Midwest Independent Transmission System Operator, Inc., as Minnesota Hub (MISO).
NEPOOL (Mass Hub) | The aggregated Locational Marginal Price (“LMP”) nodes defined by ISO New England Inc., as Mass Hub.
NIHUB | The aggregated Locational Marginal Price (“LMP”) nodes defined by PJM Interconnection, LLC as the Northern Illinois Hub.
NOB | The set of delivery points along the Nevada-Oregon border commonly identified as and agreed to by the counterparties to constitute the NOB Hub.
NP15 | The set of delivery points north of Path 15 on the California transmission grid commonly identified as and agreed to by the counterparties to constitute the NP15 Hub.
NWMT | The set of delivery points commonly identified as and agreed to by the counterparties to constitute delivery into the Northwestern Energy Montana balancing authority.
PJM East Hub | The aggregated Locational Marginal Price nodes (“LMP”) defined by PJM Interconnection, LLC as the PJM East Hub.
PJM South Hub | The aggregated Locational Marginal Price (“LMP”) nodes defined by PJM Interconnection, LLC as the PJM South Hub.
PJM West Hub | The aggregated Locational Marginal Price (“LMP”) nodes defined by PJM Interconnection, LLC as the PJM Western Hub.
Palo Verde | The switch yard at the Palo Verde nuclear power station west of Phoenix in Arizona.
SOCO (into) | The set of delivery points commonly identified as and agreed to by the counterparties to constitute delivery into the Southern Company balancing authority.
SP15 | The set of delivery points south of Path 15 on the California transmission grid commonly identified as and agreed to by the counterparties to constitute the SP15 Hub.
TVA (into) | The set of delivery points commonly identified as and agreed to by the counterparties to constitute delivery into the Tennessee Valley Authority balancing authority.
ZP26 | The set of delivery points associated with Path 26 on the California transmission grid commonly identified as and agreed to by the counterparties to constitute the ZP26 Hub.

EQR Data Dictionary
[Appendix D. Time Zone]
Time zone | Definition
AD | Atlantic Daylight.
AP | Atlantic Prevailing.
AS | Atlantic Standard.
CD | Central Daylight.
CP | Central Prevailing.
CS | Central Standard.
ED | Eastern Daylight.
EP | Eastern Prevailing.
ES | Eastern Standard.
MD | Mountain Daylight.
MP | Mountain Prevailing.
MS | Mountain Standard.
NA | Not Applicable.
PD | Pacific Daylight.
PP | Pacific Prevailing.
PS | Pacific Standard.
UT | Universal Time.

EQR Data Dictionary
[Appendix E. Units]
Units | Definition
KV | Kilovolt.
KVA | Kilovolt Amperes.
KVR | Kilovar.
KW | Kilowatt.
KWH | Kilowatt Hour.
KW-DAY | Kilowatt Day.
KW-MO | Kilowatt Month.
KW-WK | Kilowatt Week.
KW-YR | Kilowatt Year.
MVAR-YR | Megavar Year.
MW | Megawatt.
MWH | Megawatt Hour.
MW-DAY | Megawatt Day.
MW-MO | Megawatt Month.
MW-WK | Megawatt Week.
MW-YR | Megawatt Year.
RKVA | Reactive Kilovolt Amperes.
FLAT RATE | Flat Rate.

EQR Data Dictionary
[Appendix F. Rate Units]
Rate units | Definition
$/KV | Dollars per kilovolt.
$/KVA | Dollars per kilovolt amperes.
$/KVR | Dollars per kilovar.
$/KW | Dollars per kilowatt.
$/KWH | Dollars per kilowatt hour.
$/KW-DAY | Dollars per kilowatt day.
$/KW-MO | Dollars per kilowatt month.
$/KW-WK | Dollars per kilowatt week.
$/KW-YR | Dollars per kilowatt year.
$/MW | Dollars per megawatt.
$/MWH | Dollars per megawatt hour.
$/MW-DAY | Dollars per megawatt day.
$/MW-MO | Dollars per megawatt month.
$/MW-WK | Dollars per megawatt week.
$/MW-YR | Dollars per megawatt year.
$/MVAR-YR | Dollars per megavar year.
$/RKVA | Dollars per reactive kilovar amperes.
CENTS | Cents.
CENTS/KVR | Cents per kilovolt amperes.
CENTS/KWH | Cents per kilowatt hour.
FLAT RATE | Rate not specified in any other units.

Attachment B

Explanation and Comparison of Revisions to Prior Commission Orders Contained in the Proposed EQR Data Dictionary Definitions

ID DATA

Respondent Data

Field Number 1: Filer Unique Identifier

Current Definition: None

Proposed Definition: FR (Filing Respondent)—An identifier (i.e., “FR1”) used to designate a record containing Respondent identification information in a comma-delimited (csv) file that is imported into the EQR filing. Only one record with the FR1 identifier may be imported into an EQR for a given quarter.

Field Number 2: Company Name

Current Definition: Name of company (for consistency sake, it must be represented the same as it is listed in the DUNS Report).

Proposed Definition: The name of the company taking responsibility for complying with the Commission's regulations related to the EQR.

Field Number 3: Company Duns Number

Current Definition: DUNS number for company unique identification.

Proposed Definition: The unique nine digit number assigned by Dun and Bradstreet to the company identified in Field Number 2.

Field Number 4: Contact Name

Current Definition: Name of contact(s) for the filing.

Proposed Definition: Name of the person at the Respondent's company taking responsibility for compliance with the Commission's EQR regulations.

Field Number 5: Contact Title

Current Definition: Title of contact.

Proposed Definition: Title of contact identified in Field Number 4.

Field Number 6: Contact Address

Current Definition: Street address for contact.

Proposed Definition: Street address for contact identified in Field Number 4.

Field Number 7: Contact City

Current Definition: Contact city.

Proposed Definition: Contact city for the contact identified in Field Number 4.

Field Number 8: Contact State

Current Definition: Two character state or province abbreviation.

Proposed Definition: Two character state or province abbreviations for the contact identified in Field Number 4.

Field Number 9: Contact Zip

Current Definition: Contact zip code.

Proposed Definition: Zip code for the contact identified in Field Number 4.

Field Number 10: Contact Country Name

Current Definition: Country (USA, Canada, Mexico, or United Kingdom) for contact address for the company identified in Field Number 2.

Proposed Definition: Contact address for the contact identified in Field Number 4.

Field Number 11: Contact Phone

Current Definition: Phone number of contact.

Proposed Definition: Phone number of contact identified in Field Number 4.

Field Number 12: Contact Email

Current Definition: E-mail address of contact.

Proposed Definition: E-mail address of contact identified in Field Number 4.

Field Number 13: Filing Quarter

Current Definition: The period for which the Electric Quarterly Report is being submitted.

Proposed Definition: A six digit reference number used by the EQR software to indicate the quarter and year of the filing for the purpose of importing data from csv files. The first 4 numbers represent the year (e.g. 2007). The last 2 numbers represent the last month of the quarter (e.g. 03=1st quarter; 06=2nd quarter, 09=3rd quarter, 12= 4th quarter)

Seller Data

Field Number 1: Filer Unique Identifier

Current Definition: None

Proposed Definition: FS (Filing Seller)—An identifier (e.g., “FS1”, “FS2”) used to designate a record containing Seller identification information in a comma-delimited (csv) file that is imported into the EQR filing. One record for each seller company may be imported into an EQR for a given quarter.

Field Number 2: Company Name

Current Definition: Name of company (for consistency sake, it must be represented the same as it is listed in the DUNS Report).

Proposed Definition: The name of the company that is authorized to make sales as indicated in the company's FERC tariff(s). This name may be the same as the Company Name of the Respondent.

Field Number 3: Company Duns Number

Current Definition: DUNS number for company unique identification.

Proposed Definition: The unique nine digit number assigned by Dun and Bradstreet to the company identified in Field 2.

Field Number 4: Contact Name

Current Definition: Name of contact(s) for the filing.

Proposed Definition: The name of the contact for the company authorized to make sales as indicated in the company's FERC tariff(s). This name may be the same as the Company Name of the Respondent.

Field Number 5: Contact Title

Current Definition: Title of contact.

Proposed Definition: Title of contact identified in Field Number 4.

Field Number 6: Contact Address

Current Definition: Street address for contact.

Proposed Definition: Street address for contact identified in Field Number 4.

Field Number 7: Contact City

Current Definition: Contact city.

Proposed Definition: Contact city for the contact identified in Field Number 4.

Field Number 8: Contact State

Current Definition: Two character state or province abbreviation.

Proposed Definition: Two character state or province abbreviations for the contact identified in Field Number 4.

Field Number 9: Contact Zip

Current Definition: Contact zip code.

Proposed Definition: Zip code for the contact identified in Field Number 4.

Field Number 10: Contact Country Name

Current Definition: Country (USA, Canada, Mexico or United Kingdom) for contact address.

Proposed Definition: Country (USA, Canada, Mexico, or United Kingdom) for contact address identified in Field Number 4.

Field Number 11: Contact Phone

Current Definition: Phone number of contact.

Proposed Definition: Phone number of contact identified in Field Number 4.

Field Number 12: Contact Email

Current Definition: E-mail address of contact.

Proposed Definition: E-mail address of contact identified in Field Number 4.

Field Number 13: Filing Quarter

Current Definition: The period for which the Electric Quarterly Report is being submitted.

Proposed Definition: A six digit reference number used by the EQR software to indicate the quarter and year of the filing for the purpose of importing data from csv files. The first 4 numbers represent the year (e.g. 2007). The last 2 numbers represent the last month of the quarter (e.g. 03 = 1st quarter; 06 = 2nd quarter, 09 = 3rd quarter, 12 = 4th quarter)

Agent Data

Field Number 1: Filer Unique Identifier

Current Definition: None

Proposed Definition: FA (Filing Agent)—An identifier (i.e., “FA1”) used to designate a record containing Agent identification information in a comma-delimited (csv) file that is imported into the EQR filing. Only one record with the FA1 identifier may be imported into an EQR for a given quarter.

Field Number 2: Company Name

Current Definition: Name of company (for consistency sake, it must be represented the same as it is listed in the DUNS Report).

Proposed Definition: The name of the entity completing the EQR filing. The Agent's Company Name need not be the name of a company under Commission jurisdiction.

Field Number 3: Company Duns Number

Current Definition: DUNS number for company unique identification.

Proposed Definition: The unique nine digit number assigned by Dun and Bradstreet to the company identified in Field 2.

Field Number 4: Contact Name

Current Definition: Name of contact(s) for the filing.

Proposed Definition: Name of the contact for the Agent, usually the person who prepares the filing.

Field Number 5: Contact Title

Current Definition: Title of contact.

Proposed Definition: Title of contact identified in Field Number 4.

Field Number 6: Contact Address

Current Definition: Street address for contact.

Proposed Definition: Street address for contact identified in Field Number 4.

Field Number 7: Contact City

Current Definition: Contact city.

Proposed Definition: City for the contact identified in Field Number 4.

Field Number 8: Contact State

Current Definition: Two character state or province abbreviation.

Proposed Definition: Two character state or province abbreviations for the contact identified in Field Number 4.

Field Number 9: Contact Zip

Current Definition: Contact zip code.

Proposed Definition: Zip code for the contact identified in Field Number 4.

Field Number 10: Contact Country Name

Current Definition: Country (USA, Canada, Mexico or United Kingdom) for contact address.

Proposed Definition: Country (USA, Canada, Mexico, or United Kingdom) for contact address identified in Field Number 4.

Field Number 11: Contact Phone

Current Definition: Phone number of contact.

Proposed Definition: Phone number of contact identified in Field Number 4.

Field Number 12: Contact Email

Current Definition: E-mail address of contact.

Proposed Definition: E-mail address of contact identified in Field Number 4.

Field Number 13: Filing Quarter

Current Definition: The period for which the Electric Quarterly Report is being submitted.

Proposed Definition: A six digit reference number used by the EQR software to indicate the quarter and year of the filing for the purpose of importing data from csv files. The first 4 numbers represent the year (e.g. 2007). The last 2 numbers represent the last month of the quarter (e.g. 03 = 1st quarter; 06 = 2nd quarter, 09 = 3rd quarter, 12 = 4th quarter)

CONTRACT DATA:

Field Number 14: Contract Unique ID

Current Definition: None.

Proposed Definition: An identifier beginning with the letter “C” and followed by a number (e.g., “C1”, “C2”) used to designate a record containing contract information in a comma-delimited (csv) file that is imported into the EQR filing. One record for each contract product may be imported into an EQR for a given quarter.

Field Number 15: Seller Company Name

Current Definition: Name of company (For consistency sake, it must be represented the same as it is listed in the DUNS Report.)

Proposed Definition: The name of the company that is authorized to make sales as indicated in the company's FERC tariff(s). This name must match the name provided as a Seller's “Company Name” in Field Number 2 of the ID Data (Seller Data).

Field Number 16: Customer Company Name

Current Definition: Name of company (For consistency sake, it must be represented the same as it is listed in the DUNS Report.)

Proposed Definition: The name of the counterparty to the contract.

Field Number 17: Customer DUNS Number

Current Definition: DUNS Number for Company Unique Identification.

Proposed Definition: The unique nine digit number assigned by Dun and Bradstreet to the company identified in Field Number 16.

Field Number 18: Contract Affiliate

Current Definition: This is a flag to determine if the customer is an affiliate. Set to Yes if the customer is an affiliate of the provider.

Proposed Definition: The customer is an affiliate if it controls, is controlled by or is under common control with the seller, and includes a division that operates as a functional unit. This includes a division that operates as a functional unit. A customer of a seller who is an Exempt Wholesale Generator may be defined as an affiliate under the Public Utility Holding Company Act and the FPA.

Field Number 19: FERC Tariff Reference

Current Definition: Valid Entries: FERC's designation, e.g., “FERC Electric Tariff, Second Revised Volume No. 5, Schedule 2;” or “FERC Electric Rate Schedule No. 126.”

Proposed Definition: The FERC tariff reference cites the document that specifies the terms and conditions under which a Seller is authorized to make transmission sales or power sales at cost-based rates or at market-based rates. If the sales are market-based, the tariff that is specified in the FERC order granting the Seller Market Based Rate Authority must be listed.

Field Number 20: Contract Service Agreement ID

Current Definition: Unique (company) name given to each service agreement. It may be the number assigned by FERC for those service agreements that have been filed and approved by the Commission, or it can be an internal numbering system.

Proposed Definition: Unique identifier given to each service agreement that can be used by the filing company to produce the agreement, if requested. The identifier may be the number assigned by FERC for those service agreements that have been filed with and accepted by the Commission, or it may be generated as part of an internal identification system.

Field Number 21: Contract Execution Date

Current Definition: The date the contract was signed. If the parties signed on different dates, or there are different contract amendments, the latest date signed.

Proposed Definition: The date the contract was signed. If the parties signed on different dates, or there are contract amendments, use the most recent date signed.

Field Number 22: Contract Commencement Date

Current Definition: The first date the contract was effective—frequently the first date of service under a contract.

Proposed Definition: The date the contract was effective. If it is not specified in the contract, the first date of service under the contract.

Field Number 23: Contract Termination Date

Current Definition: The date specified (if any) in the contract that the contract will expire of its own terms.

Proposed Definition: The date that the contract expires.

Field Number 24: Actual Termination Date

Current Definition: The date the contract actually terminates.

Proposed Definition: No Change.

Field Number 25: Extension Provision Description

Current Definition: Description of extension provision. This field would contain Text—for example “Automatically renewed until canceled.”

Proposed Definition: Description of terms that provide for the continuation of the contract.

Field Number 26: Class Name

Current Definition: Name of class. Valid entries are F—Firm, NF—Non-Firm, UP—Unit Power Sale, BA—Billing Adjustment, and N/A—Not Applicable.

Proposed Definition:

• F—Firm: For transmission sales, service or product that always has priority over non-firm service. For power sales, service or product that is not interruptible for economic reasons.

• NF—Non-Firm: For transmission sales, service that is reserved and/or scheduled on an as-available basis and is subject to curtailment or interruption at a lesser priority compared to firm service. An energy sale for which delivery or receipt of the energy may be interrupted for any reason or no reason, without liability on the part of either the buyer or seller.

• UP—Unit Power Sale: Designates a dedicated sale of energy and capacity from one or more than one generation unit(s).

• N/A—Not Applicable: To be used only when the other available Class Names do not apply.

Field Number 27: Term Name

Current Definition: Name for term. LT = Long-Term (≥ one year), ST = Short-Term (< one year).

Proposed Definition: Contracts with durations of one year or greater are long-term. Contracts with shorter durations are short-term.

Field Number 28: Increment Name

Current Definition: None.

Proposed Definition:

• H—Hourly: Terms of the contract (if specifically noted in the contract) set for up to 6 consecutive hours (≤ 6 consecutive hours).

• D—Daily: Terms of the contract (if specifically noted in the contract) set for more than 6 and up to 36 consecutive hours (> 6 and ≤ 36 consecutive hours).

• W-Weekly: Terms of the contract (if specifically noted in the contract) set for over 36 consecutive hours and up to 168 consecutive hours (> 36 and ≤ 168 consecutive hours).

• M—Monthly: Terms of the contract (if specifically noted in the contract) set for more than 168 consecutive hours up to one month (> 168 consecutive hours and ≤ 1 month).

• S—Seasonal: Terms of the contract (if specifically noted in the contract) set for greater than one month and less than 365 consecutive days (> 1 month and < 1 year).

• Y—Yearly: Terms of the contract (if specifically noted in the contract) set for one year or more (≤ 1 year).

• N/A—Not Applicable: Terms of the contract do not specify an increment.

Field Number 29: Increment Peaking Name

Current Definition: Name for increment peaking. For product, services, or transaction[s] that are identified as P = On Peak, OP = Off-Peak, FP = Full Period, N/A = Not Applicable, Undefined.

Proposed Definition:

• FP—Full Period: The product described may be sold during all hours under the contract.

• OP—Off-Peak: The product described may be sold only during those hours designated as off-peak in the NERC region of the point of delivery.

• P—Peak: The product described may be sold only during those hours designated as on-peak in the NERC region of the point of delivery.

• N/A—Not Applicable: To be used only when the increment peaking name is not specified in the contract.

Field Number 30: Product Type Name

Current Definition: A product is something being bought and sold, a type of service or standard agreement. The “product type name” includes: T = Electric Transmission, MB = Market Based Power, CB = Cost Based Power, S = Services—Other.

Proposed Definition:

• CB—Cost-Based: Energy or capacity sold under a FERC-approved cost-based rate tariff.

• MB—Market-Based: Energy sold under the seller's FERC-approved market-based rate tariff.

• T—Transmission: The product is sold under a FERC-approved transmission tariff.

• Other: The product cannot be characterized by the other product type names.

Field Number 31: Product Name

Current Definition: A product is something being bought and sold, a type of service or standard agreement.

Proposed Definition: Description of the product being offered. (Refer to Attachment A-Appendix A for an acceptable list of product names for this field).

Field Number 32: Quantity

Current Definition: Product quantity for the contract item identified.

Proposed Definition: Quantity for the contract product identified.

Field Number 33: Units

Current Definition: The unit of measurement for the quantity and rates represented. Examples include KW, MW, and MWH.

Proposed Definition: Measure stated in the contract for the product sold (Refer to Attachment A-Appendix E for an acceptable list of units for this field).

Field Number 34: Rate

Current Definition: Rate charged for this product per unit. Used when a single rate is designated for a product.

Proposed Definition: The charge for the product per unit as stated in the contract.

Field Number 35: Rate Minimum

Current Definition: Minimum rate to be charged per the contract, if a range is specified.

Proposed Definition: No Change.

Field Number 36: Rate Maximum

Current Definition: Maximum rate to be charged per the contract, if a range is specified.

Proposed Definition: No Change.

Field Number 37: Rate Description

Current Definition: Text description of rate. May reference FERC tariff, or, if a discounted or negotiated rate, include algorithm.

Proposed Definition: No Change.

Field Number 38: Rate Units

Current Definition: The unit of measurement for the quantity and rates represented. Examples include KW, MW, and MWH.

Proposed Definition: Measure stated in the contract for the product sold. (Refer to Attachment A-Appendix F for an acceptable list of rate units for this field).

Field Number 39: Point of Receipt Balancing Authority (PORBA)

Current Definition: The registered control area abbreviation used in OASIS applications.

Proposed Definition: The registered NERC Balancing Authority (formerly called NERC Control Area) abbreviation used in OASIS applications or “Hub” if point of receipt is at a restricted trading hub.

Field Number 40: Point of Receipt Specific Location (PORSL)

Current Definition: The specific location for the point of receipt (POR) as spelled out in the contract. Examples include a named sub-station or generation plant.

Proposed Definition: The specific location at which the product is received if designated in the contract. If receipt occurs at a trading hub, a standardized hub name must be used. (Refer to Attachment A-Appendix C for an acceptable list of locations for this field).

Field Number 41: Point of Delivery Balancing Authority (PODBA)

Current Definition: The registered control area abbreviation used in OASIS applications.

Proposed Definition: The registered NERC Balancing Authority (formerly called NERC Control Area) abbreviation used in OASIS applications or “Hub” if point of receipt is at a restricted trading hub.

Field Number 42: Point of Delivery Specific Location (PODSL)

Current Definition: The specific location for the point of delivery (POD) as spelled out in the contract. Examples include a named sub-station or generation plant.

Proposed Definition: The specific location at which the product is delivered if designated in the contract. If receipt occurs at a trading hub, a standardized hub name must be used. (Refer to Attachment A-Appendix C for an acceptable list of hubs for this field).

Field Number 43: Begin Date

Current Definition: Beginning date [of] for the product specified (this should be specified here as explicitly as it is specified in the contract, i.e., yyyy+mo+dd+hh+mm+ss+tz). TZ = time zone.

Proposed Definition: First date for the sale of the product at the rate specified.

Field Number 44: End Date

Current Definition: Ending date for the product specified (this should be specified here as explicitly as it is specified in the contract, i.e., yyyy+mo+dd+hh+mm+ss+tz). TZ = time zone.

Proposed Definition: Last date for the sale of the product at the rate specified.

Field Number 45: Time Zone.

Current Definition: None.

Proposed Definition: The time zone in which the sales will be made under the contract. (Refer to Attachment A-Appendix D for an acceptable list of time zones for this field).

TRANSACTION DATA

Field Number 46: Transaction Unique ID

Current Definition: None.

Proposed Definition: An identifier beginning with the letter “T” and followed by a number (e.g., “T1”, “T2”) used to designate a record containing transaction information in a comma-delimited (csv) file that is imported into the EQR filing. One record for each transaction record may be imported into an EQR for a given quarter. A new transaction record must be used every time a price changes in a sale.

Field Number 47: Seller Company Name

Current Definition: Name of company (For consistency sake, it must be represented the same as it is listed in the DUNS Report.)

Proposed Definition: The name of the company that is authorized to make sales as indicated in the company's FERC tariff(s). This name must match the name provided as a Seller's “Company Name” in Field 2 of the ID Data (Seller Data).

Field Number 48: Customer Company Name

Current Definition: Name of company. (For consistency sake, it must be represented the same as it is listed in the DUNS Report.)

Proposed Definition: The name of the counterparty to the contract.

Field Number 49: Customer DUNS Number

Current Definition: DUNS Number for Company Unique Identification.

Proposed Definition: The unique nine digit number assigned by Dun and Bradstreet to the counterparty to the contract.

Field Number 50: FERC Tariff Reference

Current Definition: Valid Entries: FERC's designation, e.g., “FERC Electric Tariff, Second Revised Volume No. 5, Schedule 2;” or “FERC Electric Rate Schedule No. 126.”

Proposed Definition: The FERC tariff reference cites the document that specifies the terms and conditions under which a Seller is authorized to make transmission sales or power sales at cost-based rates or at market-based rates. If the sales are market-based, the tariff that is specified in the FERC order granting the Seller Market Based Rate Authority must be listed.

Field Number 51: Contract Service Agreement ID

Current Definition: Unique (company) name given to each service agreement. It may be the number assigned by FERC for those service agreements that have been filed and approved by the Commission, or it can be an internal numbering system.

Proposed Definition: Unique identifier given to each service agreement that can be used by the filing company to produce the agreement, if requested. The identifier may be the number assigned by FERC for those service agreements that have been filed and approved by the Commission, or it may be generated as part of an internal identification system.

Field Number 52: Transaction Unique Identifier

Current Definition: Unique reference number assigned by the seller for each transaction.

Proposed Definition: No Change.

Field Number 53: Transaction Begin Date

Current Definition: Transaction begin date must be prior to the end of the reporting quarter. Date must contain hours, minutes, seconds, and time zone (MM.DD.YYYY.HH.MM.SS.TZ). Where minutes and seconds are not provided, default to zeros.

Proposed Definition: First date and time the product is sold during the quarter at the specified price.

Field Number 54: Transaction End Date

Current Definition: Transaction end date and time must be after the beginning of the reporting quarter. Date must contain hours, minutes, seconds, and time zone (MM.DD.YYYY.HH.MM.SS.TZ). Where minutes and seconds are not provided, default to zeros.

Proposed Definition: Last date and time the product is sold during the quarter at the specified price.

Field Number 55: Time Zone.

Current Definition: None.

Proposed Definition: The time zone in which the sales will be made under the contract. (Refer to Attachment A-Appendix D for an acceptable list of time zones for this field).

Field Number 56: Point of Delivery Balancing Authority (PODBA)

Current Definition: The registered control area abbreviation used in OASIS applications.

Proposed Definition: The registered NERC Balancing Authority (formerly called NERC Control Area) abbreviation used in OASIS applications or “Hub” if point of receipt is at a restricted trading hub.

Field Number 57: Point of Delivery Specific Location (PODSL)

Current Definition: The specific location for the point of delivery (POD) as spelled out in the contract. Examples include sub-station or generation plant.

Proposed Definition: The specific location at which the product is delivered. If receipt occurs at a trading hub, a standardized hub name must be used. (Refer to Attachment A-Appendix C for an acceptable list of hubs for this field).

Field Number 58: Class Name

Current Definition: Name of class. Valid entries are F-Firm, NF-Non-Firm, UP-Unit Power Sale, BA-Billing Adjustment, and N/A-Not Applicable.

Proposed Definition:

• F-Firm: For transmission sales, service or product that always has priority over non-firm service. For power sales, service or product that is not interruptible for economic reasons.

• NF-Non-Firm: For transmission sales, service that is reserved and/or scheduled on an as-available basis and is subject to curtailment or interruption at a lesser priority compared to firm transmission service. An energy sale for which delivery or receipt of the energy may be interrupted for any reason or no reason, without liability on the part of either the buyer or seller.

• UP-Unit Power Sale: Designates a dedicated sale of energy and capacity from one or more than one generation unit(s).

• BA-Billing Adjustment: Incremental positive or negative material change to previous EQR totals.

• N/A-Not Applicable: To be used only when the other available class names do not apply.

Field Number 59: Term Name

Current Definition: Name for term. LT = Long-Term (> one year), ST = Short-Term (≤ one year).

Proposed Definition: Power sales transactions with durations one year or greater are long-term. Transactions with shorter durations are short-term.

Field Number 60: Increment Name

Current Definition: Name of increment which would be one of the following: H = Hourly, D = Daily, W = Weekly, M = Monthly, Y = Yearly (or annually) or {registered}. (New items may be included in this list provided they are registered with FERC prior to their inclusion in the filing.)

Proposed Definition:

• H-Hourly: Terms of the particular sale set for up to 6 consecutive hours (≤ 6 consecutive hours) Includes LMP based sales in ISO/RTO markets.

• D-Daily: Terms of the particular sale set for more than 6 and up to 36 consecutive hours (> 6 and ≤ 36 consecutive hours) Includes sales over a peak or off-peak block during a single day.

• W-Weekly: Terms of the particular sale set for over 36 consecutive hours and up to 168 consecutive hours (> 36 and ≤ 168 consecutive hours). Includes sales for a full week and sales for peak and off-peak blocks over a particular week.

• M-Monthly: Terms of the particular sale set for set for more than 168 consecutive hours up to one month (> 168 consecutive hours and ≤ 1 month). Includes sales for full month or multi-week sales during a given month.

• S-Seasonal: Terms of the specific sales set for greater than one month and less than 365 consecutive days (> 1 month and < 1 year).

• Y-Yearly: Terms of the particular sale set for one year or more (≥ 1 year). Includes all long-term contracts with defined pricing terms (fixed-price, formula, or indexed).

• N/A-Not Applicable: To be used only when other available increment names do not apply.

Field Number 61: Increment Peaking Name

Current Definition: Name for increment peaking. For product, services, or transaction[s] that are identified as P = On Peak, OP = Off-Peak, FP = Full Period, N/A = Not Applicable, Undefined.

Proposed Definition:

• FP—Full Period: The product described may be sold during all hours under the contract.

• OP—Off-Peak: The product described may be sold only during those hours designated as off-peak in the NERC region of the point of delivery.

• P—Peak: The product described may be sold only during those hours designated as on-peak in the NERC region of the point of delivery.

• N/A—Not Applicable: To be used only when other available increment peaking names do not apply.

Field Number 62: Product Name

Current Definition: A product is something being bought and sold, a type of service or standard agreement.

Proposed Definition: Description of product being offered. (Refer to Attachment A-Appendix A for an acceptable list of product names for this field).

Field Number 63: Transaction Quantity

Current Definition: The quantity of the product in this transaction. This could be a whole number or it could include decimals.

Proposed Definition: The quantity of the product in this transaction.

Field Number 64: Price

Current Definition: Rate charged for this item per unit. Used with contract data when a single rate is designated for a product. Used with transaction data to designate the transaction period's weighted average actual rate.

Proposed Definition: Price charged for the product per unit.

Field Number 65: Rate Units

Current Definition: The unit of measurement for the quantity and rates represented. Examples include KW, MW, and MWH.

Proposed Definition: Measure appropriate to the price of the product sold. (Refer to Attachment A-Appendix F for an acceptable list of rate units for this field).

Field Number 66: Total Transmission Charge

Current Definition: State N/A if transmission is not provided by the selling entity, else this represents the total transmission charge associated with the identified power sale transaction.

Proposed Definition: Payments received for transmission services when explicitly identified.

Field Number 67: Total Transaction Charge

Current Definition: Total revenue for transaction, including for the commodity and all other services related to the commodity sale under the terms of the contract, including bundled ancillary and transmission services provided by the respondent or others. This is in dollars and cents.

Proposed Definition: Transaction Quantity (Field 63) times Price (Field 64) plus Total Transmission Charge (Field 66).

PRODUCT NAME APPENDIX

BLACK START SERVICE

Current Definition: Service available after a system-wide blackout where a generator participates in system restoration activities without the availability of an outside electric supply (Ancillary Service)

Proposed Definition: No Change.

BOOKED OUT POWER

Energy or capacity contractually committed bilaterally for delivery but not actually delivered due to some offsetting or countervailing trade (Transaction only).

Proposed Definition: No Change.

CAPACITY

A quantity of demand that is charged on a $/KW or $/MW basis.

Proposed Definition: No Change.

CAPACITY REASSIGNMENT

Current Definition: None.

Proposed Definition: An agreement under which a transmission customer sells, assigns or transfers all or portion of its rights to an eligible customer.

CUSTOMER CHARGE

Current Definition: Fixed contractual charges assessed on a per customer basis that could include billing service.

Proposed Definition: No Change.

DIRECT ASSIGNMENT FACILITIES CHARGE

Charges for facilities or portions of facilities that are constructed or used for the sole use/benefit of a particular customer.

Proposed Definition: No Change.

EMERGENCY ENERGY

Contractual provisions to supply energy or capacity to another entity during critical situations.

Proposed Definition: No Change.

ENERGY

A quantity of electricity that is sold or transmitted over a period of time.

Proposed Definition: No Change.

ENERGY IMBALANCE

Service provided when a difference occurs between the scheduled and the actual delivery of energy to a load obligation.

Proposed Definition: No Change.

EXCHANGE

(Previously “Exchange Agreement”.) Transaction whereby the receiver accepts delivery of energy for a supplier's account and returns energy later at times, rates, and in amounts as mutually agreed.

Proposed Definition: The product name is being changed from “Exchange Agreement” to “Exchange.” However, the underlying definition is not proposed to be changed.

FUEL CHARGE

Current Definition: Charge based on the cost or amount of fuel used for generation.

Proposed Definition: No Change.

GRANDFATHERED BUNDLED

Services provided for bundled transmission, ancillary services and energy under contracts effective prior to Order No. 888's OATTs.

Proposed Definition: No Change.

INTERCONNECTION AGREEMENT

Contract that provides the terms and conditions for a generator, distribution system owner, transmission owner, transmission provider, or transmission system to physically connect to a transmission system or distribution system.

Proposed Definition: No Change.

MEMBERSHIP AGREEMENT

Agreement to participate and be subject to rules of a system operator.

Proposed Definition: No Change.

MUST RUN AGREEMENT

An agreement that requires a unit to run.

Proposed Definition: No Change.

NEGOTIATED-RATE TRANSMISSION

Transmission performed under a negotiated rate contract (applies only to merchant transmission companies).

Proposed Definition: No Change.

NETWORK

Transmission service under contract providing network service.

Proposed Definition: No Change.

NETWORK OPERATING AGREEMENT

An executed agreement that contains the terms and conditions under which a network customer operates its facilities and the technical and operational matters associated with the implementation of network integration transmission service.

Proposed Definition: No Change.

OTHER

Product name not otherwise included.

Proposed Definition: No Change.

POINT-TO-POINT AGREEMENT

Transmission service under contract between specified Points of Receipt and Delivery.

Proposed Definition: No Change.

REACTIVE SUPPLY & VOLTAGE CONTROL

Production or absorption of reactive power to maintain voltage levels on transmission systems (Ancillary Service).

Proposed Definition: No Change.

REAL POWER TRANSMISSION LOSS

The loss of energy, resulting from transporting power over a transmission system.

Proposed Definition: No Change.

REGULATION & FREQUENCY RESPONSE

Service providing for continuous balancing of resources (generation and interchange) with load, and for maintaining scheduled interconnection frequency by committing on-line generation where output is raised or lowered as necessary to follow the moment-by-moment changes in load (Ancillary Service).

Proposed Definition: Service providing for continuous balancing of resources (generation and interchange) with load, and for maintaining scheduled interconnection frequency by committing on-line generation where output is raised or lowered and by other non-generation resources capable of providing this service as necessary to follow the moment-by-moment changes in load (Ancillary Service).

REQUIREMENTS SERVICE

Current Definition: Firm, load-following power supply necessary to serve a specified share of customer's aggregate load during the term of the agreement. Requirements service may include some or all of the energy, capacity and ancillary service products. (If the components of the requirements service are priced separately, they should be reported separately in the transactions tab.)

Proposed Definition: No Change.

SCHEDULE SYSTEM CONTROL & DISPATCH

Scheduling, confirming and implementing an interchange schedule with other Balancing Authorities, including intermediary Balancing Authorities providing transmission service, and ensuring operational security during the interchange transaction (Ancillary Service).

Proposed Definition: No Change.

SPINNING RESERVE

Unloaded synchronized generating capacity that is immediately responsive to system frequency and that is capable of being loaded in a short time period (Ancillary Service).

Proposed Definition: Unloaded synchronized generating capacity that is immediately responsive to system frequency and that is capable of being loaded in a short time period or non-generation resources capable of providing this service (Ancillary Service).

SUPPLEMENTAL RESERVE

Current Definition: Service needed to serve load in the event of a system contingency, available with greater delay than SPINNING RESERVE (Ancillary Service).

Proposed Definition: Service needed to serve load in the event of a system contingency, available with greater delay than SPINNING RESERVE. This service may be provided by generating units that are on-line but unloaded, by quick-start generation or by interruptible load or other non-generation resources capable of providing this service (Ancillary Service).

SYSTEM OPERATING AGREEMENTS

Current Definition: An executed agreement that contains the terms and conditions under which a system or network customer shall operate its facilities and the technical and operational matters associated with the implementation of network.

Proposed Definition: No Change.

TOLLING ENERGY

Current Definition: None.

Proposed Definition: Energy sold from a plant whereby the buyer provides fuel to a generator (seller) and receives power in return for pre-established fees.

TRANSMISSION OWNERS AGREEMENT

Current Definition: The agreement that establishes the terms and conditions under which a transmission owner transfers to an ISO operational control over designated transmission facilities.

Proposed Definition: The agreement that establishes the terms and conditions under which a transmission owner transfers operational control over designated transmission facilities.

UPLIFT

Current Definition: None.

Proposed Definition: A make-whole payment by an RTO/ISO to the EQR filer.

Balancing Authority Appendix:

Ameren Native Load—No Change

Alabama Electric Cooperative, Inc.—No Change

Associated Electric Cooperative, Inc.—No Change

Alberta Electric System Operator—No Change

AESC, LLC—Wheatland CIN-Revised NERC Definition—AEWC, Allegheny Energy Supply Company, LLC—Wheatland CIN, ECAR

Alliant Energy—CA—ALTE-Revised NERC Definition—ALTE, Alliant Energy Corporate Services, Inc.—East, MRO

Alliant Energy—CA—ALTW—Revised NERC Definition—ALTW, Alliant Energy Corporate Services, Inc.—West, MRO

Ameren Transmission—Revised NERC Definition—AMRN, Ameren Transmission (legal name Ameren Services Company), SERC

Avista Corp.—Revised NERC Definition—AVA, Avista Corp., WSCC

Arizona Public Service Company—Revised NERC Definition—AZPS, Arizona Public Service Company, WSCC

CECD, LLC—Batesville—No Change

British Columbia Transmission Corporation—No Change

Bonneville Power Administration Transmission—Revised NERC Definition—BPAT, Bonneville Power Administration Transmission, WSCC

Big Rivers Electric Corp.—Revised NERC Definition—BREC, Big Rivers Electric Corp., SERC

Comision Federal de Electricidad—Revised NERC Definition—CFE, Comision Federal de Electricidad, WSCC

Chelan County PUD—Revised NERC Definition—CHPD, Chelan County PUD, WSCC

Central Illinois Light Co—Revised NERC Definition—CILC, Central Illinois Light Co, SERC

Cinergy Corporation—No Change

California Independent System Operator—Revised NERC Definition—CISO, California Independent System Operator (CAISO), WSCC

Cleco Power LLC—No Change

CECD, LLC—No Change

Michigan Electric Coordinated System—Consumers—No Change

Carolina Power & Light Company—CPLE—Revised NERC Definition—CPLE, Carolina Power & Light Company—East, SERC

Carolina Power & Light Company—CPLW—Revised NERC Definition—CPLW, Carolina Power & Light Company—West, SERC

Central and Southwest—No Change

Columbia Water & Light—Revised NERC Definition—CWLD, Central and Southwest, SERC

City Water Light & Power—Revised NERC Definition—CWLP, City Water Light & Power, RFC

DECA, LLC—Arlington Valley—Revised NERC Definition—DEAA, CECD, LLC—Arlington Valley, WSCC

Michigan Electric Coordinated System—Detroit Edison—No Change

DECA, LLC—North Little Rock—Revised NERC Definition—DENL, ECD, LLC—North Little Rock, SERC

CECD, LLC—City of Ruston, LA—No Change

P.U.D. No. 1 of Douglas County—Revised NERC Definition—DOPD, P.U.D. No. 1 of Douglas County, WSCC

Dairyland Power Cooperative—Revised NERC Definition—DPC, Dairyland Power Cooperative, MRO

Duke Energy Corporation—Revised NERC Definition—DUK, Duke Power Company LLC (Transmission), SERC

Empire District Electric Co., The—No Change

Electric Energy, Inc.—No Change

Entergy—No Change

East Kentucky Power Cooperative, Inc.—Revised NERC Definition—EKPC, East Kentucky Power Cooperative, Inc., SERC

El Paso Electric—Revised NERC Definition—EPE, El Paso Electric, WSCC

ERCOT ISO—No Change

American Transmission Systems, Inc.—No Change

Florida Municipal Power Pool—No Change

Florida Power Corporation—No Change

Florida Power & Light—No Change

GridAmerica—No Change

Grant County PUD No.2—Revised NERC Definition—GCPD, Grant County PUD No.2, WSCC

Grand River Dam Authority—No Change

Great River Energy—Revised NERC Definition—GRE, Great River Energy, MRO

Great River Energy—No Change

Great River Energy—No Change

Great River Energy—No Change

CECD, LLC—Gila River—No Change

Georgia System Operations Corporation—No Change

Georgia Transmission Corporation—No Change

Gainesville Regional Utilities—No Change

Hoosier Energy—No Change

CECD, LLC—Harquahalla—No Change

Hydro—Quebec, TransEnergie—No Change

City of Homestead—No Change

Imperial Irrigation District—Revised NERC Definition—IID, Imperial Irrigation District, WSCC

City of Independence P&L Dept.—No Change

Illinois Power Co.—Revised NERC Definition—IP, Illinois Power Co., SERC

Idaho Power Company—Revised NERC Definition—IPCO, Idaho Power Company, WSCC

Indianapolis Power & Light Company—No Change

Illinois Power Co.—No Change

ISO New England Inc.—No Change

JEA—No Change

Board of Public Utilities—No Change

Kansas City Power & Light, Co—No Change

Lafayette Utilities System—No Change

Louisiana Generating, LLC—No Change

Los Angeles Department of Water and Power—Revised NERC Definition—LDWP, Los Angeles Department of Water and Power, WSCC

Louisiana Energy & Power Authority—No Change

Lincoln Electric System—No Change

LG&E Energy Transmission Services—Revised NERC Definition—LGEE, E.ON U.S. Services Inc., RFC

Montana—Dakota Utilities Co.—No Change

MidAmerican Energy Company—No Change

Michigan Electric Coordinated System—Revised NERC Definition—MECS, Michigan Electric Coordinated System, RFC

Madison Gas and Electric Company—Revised NERC Definition—MGE, Madison Gas and Electric Company, MRO

MHEB, Transmission Services—No Change

Midwest ISO—No Change

Westar Energy/Missouri Joint Municipal Electric Utility Commission—No Change

Minnesota Power, Inc.—No Change

Aquila Networks—MPS-Revised NERC Definition—MPS, Aquila Networks—Missouri Public Service, SPP

Muscatine Power and Water—No Change

New Brunswick Power Corporation—No Change

Nevada Power Company—Revised NERC Definition—NEVP, Nevada Power Company, WSCC

New Horizons Electric Cooperative—No Change

Northern Indiana Public Service Company—Revised NERC Definition—NIPS, Northern Indiana Public Service Company, RFC

Nebraska Public Power District—No Change

Utilities Commission, City of New Smyrna Beach—No Change

Northern States Power Company—Revised NERC Definition—NSP, Northern States Power Company, MRO

NorthWestern Energy—No Change

New York Independent System Operator—No Change

Oklahoma Gas and Electric—No Change

Ontario—Independent Electricity System Operator—No Change

OPPD CA/TP—No Change

Otter Tail Power Company—Revised NERC Definition—OTP, Otter Tail Power Company, MRO

Ohio Valley Electric Corporation—Revised NERC Definition—OVEC, Ohio Valley Electric Corporation, RFC

PacifiCorp—East—Revised NERC Definition—PACE, PacifiCorp—East, WSCC

PacifiCorp—West—Revised NERC Definition—PACE, PacifiCorp—West, WSCC

Portland General Electric—Revised NERC Definition—PGE, Portland General Electric, WSCC

PJM Interconnection—Revised NERC Definition—PJM, PJM Interconnection, RFC

Public Service Company of New Mexico—Revised NERC Definition—PNM, Public Service Company of New Mexico, WSCC

Public Service Company of Colorado—Revised NERC Definition—PSCO, Public Service Company of Colorado CA&TP, WSCC

Puget Sound Energy Transmission—Revised NERC Definition—PSEI, Puget Sound Energy Transmission, WSCC

CECD, LLC—Arkansas—No Change

Reedy Creek Improvement District—No Change

Santee Cooper—No Change

South Carolina Electric & Gas Company—No Change

Seattle City Light—Revised NERC Definition—SCL, Seattle City Light, WSCC

Seminole Electric Cooperative—No Change

Sunflower Electric Power Corporation—No Change

Southeastern Power Administration—Revised NERC Definition—SEHA, Southeastern Power Administration—Hartwell, SERC

Southeastern Power Administration—Revised NERC Definition—SERU, Southeastern Power Administration—Russell, SERC

Southeastern Power Administration—Revised NERC Definition—SETH, Southeastern Power Administration—Thermond, SERC

Southern Indiana Gas & Electric Co.—Revised NERC Definition—SIGE, Southern Indiana Gas & Electric Co., RFC

Southern Illinois Power Cooperative—Revised NERC Definition—SIPC, Southern Illinois Power Cooperative, SERC

South Mississippi Electric Power Association—No Change

South Mississippi Electric Power Association—No Change

Southern Minnesota Municipal Power Agency—No Change

Sacramento Municipal Utility District—Revised NERC Definition—SMUD, Sacramento Municipal Utility District, WSCC

Southern Company Services, Inc.—No Change

Southwestern Power Administration—No Change

SaskPower Grid Control Centre—No Change

Sierra Pacific Power Co.—Transmission—Revised NERC Definition—SPPC, Sierra Pacific Power Co.—Transmission, WSCC

Southwestern Public Service Company—No Change

Salt River Project—Revised NERC Definition—SRP, Salt River Project, WSCC

Southwest Power Pool—No Change

City of Tallahassee—No Change

Tampa Electric Company—No Change

Tucson Electric Power Company—Revised NERC Definition—TEPC, Tucson Electric Power Company, WSCC

North American Electric Reliability Council—No Change

Turlock Irrigation District—No Change

TRANSLink Management Company—No Change

Tacoma Power—Revised NERC Definition—TPWR, Tacoma Power, WSCC

Tennessee Valley Authority ESO—No Change

Upper Peninsula Power Co.—No Change

Western Area Power Administration—CM—Revised NERC Definition—WACM, Western Area Power Administration—Colorado-Missouri, WSCC

Western Area Power Administration—DSW—Revised NERC Definition—WALC, Western Area Power Administration—Lower Colorado, WSCC

Western Area Power Administration—UGPR—Revised NERC Definition—WAUE, Western Area Power Administration—Upper Great Plains East, MAPP

Western Area Power Administration—UGPR—Revised NERC Definition—WAUW, Western Area Power Administration—Upper Great Plains West, WSCC

Wisconsin Energy Corporation—Revised NERC Definition—WEC, Wisconsin Energy Corporation, RFC

Western Farmers Electric Cooperative—No Change

CECD, LLC—No Change

Aquila Networks—West Plains Dispatch—No Change

Aquila Networks—WPK—Revised NERC Definition—WPEK, Aquila Networks—Kansas, SPP

Wisconsin Public Service Corporation—Revised NERC Definition—WPS, Wisconsin Public Service Corporation, MRO

Westar Energy, Inc.—No Change

Yadkin, Inc.—No Change

HUB APPENDIX

ADHUB

Current Definition: None

Proposed Definition: The aggregated Locational Marginal Price (“LMP”) nodes defined by PJM Interconnection, LLC as the AEP/Dayton Hub.

AEP (into)

Current Definition: None

Proposed Definition: The set of delivery points commonly identified as and agreed to by the counterparties to constitute delivery into the AEP balancing authority.

AEPGenHub

Current Definition: None

Proposed Definition: The aggregated Locational Marginal Price (“LMP”) nodes defined by PJM Interconnection, LLC as the AEPGenHub.

COB

Current Definition: None

Proposed Definition: The set of delivery points along the California-Oregon commonly identified as and agreed to by the counterparties to constitute the COB Hub.

Cinergy (into)

Current Definition: None

Proposed Definition: The set of delivery points commonly identified as and agreed to by the counterparties to constitute delivery into the Cinergy balancing authority.

Cinergy Hub (MISO)

Current Definition: None

Proposed Definition: The aggregated Elemental Pricing nodes (“Epnodes”) defined by the Midwest Independent Transmission System Operator, Inc., as Cinergy Hub (MISO).

Comed (into)

Current Definition: None

Proposed Definition: The set of delivery points commonly identified as and agreed to by the counterparties to constitute delivery into the Commonwealth Edison balancing authority.

Entergy (into)

Current Definition: None

Proposed Definition: The set of delivery points commonly identified as and agreed to by the counterparties to constitute delivery into the Entergy balancing authority.

FE Hub

Current Definition: None

Proposed Definition: The aggregated Elemental Pricing nodes (“Epnodes”) defined by the Midwest Independent Transmission System Operator, Inc., as FE Hub (MISO).

Four Corners

Current Definition: None

Proposed Definition: The set of delivery points at the Four Corners power plants commonly identified as and agreed to by the counterparties to constitute the Four Corners Hub.

Illinois Hub (MISO)

Current Definition: None

Proposed Definition: The aggregated Elemental Pricing nodes (“Epnodes”) defined by the Midwest Independent Transmission System Operator, Inc., as Illinois Hub (MISO).

Mead

Current Definition: None

Proposed Definition: The set of delivery points at or near Hoover Dam commonly identified as and agreed to by the counterparties to constitute the Mead Hub.

Michigan Hub (MISO)

Current Definition: None

Proposed Definition: The aggregated Elemental Pricing nodes (“Epnodes”) defined by the Midwest Independent Transmission System Operator, Inc., as Michigan Hub (MISO).

Mid-Columbia (Mid-C)

Current Definition: None

Proposed Definition: The set of delivery points along the Columbia River commonly identified as and agreed to by the counterparties to constitute the Mid-Columbia Hub.

Minnesota Hub (MISO)

Current Definition: None

Proposed Definition: The aggregated Elemental Pricing nodes (“Epnodes”) defined by the Midwest Independent Transmission System Operator, Inc., as Minnesota Hub (MISO).

NEPOOL (Mass Hub)

Current Definition: None

Proposed Definition: The aggregated Locational Marginal Price nodes (“LMP”) defined by ISO New England Inc., as Mass Hub.

NIHUB

Current Definition: None

Proposed Definition: The aggregated Locational Marginal Price nodes (“LMP”) defined by PJM Interconnection, LLC as the Northern Illinois Hub.

NOB

Current Definition: None

Proposed Definition: The set of delivery points along the Nevada-Oregon border commonly identified as and agreed to by the counterparties to constitute the NOB Hub.

NP15

Current Definition: None

Proposed Definition: The set of delivery points north of Path 15 on the California transmission grid commonly identified as and agreed to by the counterparties to constitute the NP15 Hub.

NWMT

Current Definition: None

Proposed Definition: The set of delivery points commonly identified as and agreed to by the counterparties to constitute delivery into the Northwestern Energy Montana balancing authority.

PJM East Hub

Current Definition: None

Proposed Definition: The aggregated Locational Marginal Price nodes (“LMP”) defined by PJM Interconnection, LLC as the PJM East Hub.

PJM South Hub

Current Definition: None

Proposed Definition: The aggregated Locational Marginal Price nodes (“LMP”) defined by PJM Interconnection, LLC as the PJM South Hub.

PJM West Hub

Current Definition: None

Proposed Definition: The aggregated Locational Marginal Price nodes (“LMP”) defined by PJM Interconnection, LLC as the PJM Western Hub.

Palo Verde

Current Definition: None

Proposed Definition: The switch yard at the Palo Verde nuclear power station west of Phoenix in Arizona.

SOCO (into)

Current Definition: None

Proposed Definition: The set of delivery points commonly identified as and agreed to by the counterparties to constitute delivery into the Southern Company balancing authority.

SP15

Current Definition: None

Proposed Definition: The set of delivery points south of Path 15 on the California transmission grid commonly identified as and agreed to by the counterparties to constitute the SP15 Hub.

TVA (into)

Current Definition: None

Proposed Definition: The set of delivery points commonly identified as and agreed to by the counterparties to constitute delivery into the Tennessee Valley Authority balancing authority.

ZP26

Current Definition: None

Proposed Definition: The set of delivery points associated with Path 26 on the California transmission grid commonly identified as and agreed to by the counterparties to constitute the ZP26 Hub.

TIME ZONE APPENDIX

AD—Never previously defined—Atlantic Daylight

AP—Never previously defined—Atlantic Prevailing

AS—Never previously defined—Atlantic Standard

CD—Never previously defined—Central Daylight

CP—Never previously defined—Central Prevailing

CS—Never previously defined—Central Standard

ED—Never previously defined—Eastern Daylight

EP—Never previously defined—Eastern Prevailing

ES—Never previously defined—Eastern Standard

MD—Never previously defined—Mountain Daylight

MP—Never previously defined—Mountain Prevailing

MS—Never previously defined—Mountain Standard

NA—Never previously defined—Not Applicable

PD—Never previously defined—Pacific Daylight

PP—Never previously defined—Pacific Prevailing

PS—Never previously defined—Pacific Standard

UT—Never previously defined—Universal Time

UNITS APPENDIX

KV—Never previously defined—kilovolt

KVA—Never previously defined—kilovolt amperes

KVR—Never previously defined—kilovar

KW—Never previously defined—kilowatt

KWH—Never previously defined—kilowatt hour

KW—DAY—Never previously defined—kilowatt day

KW—MO—Never previously defined—kilowatt month

KW—WK—Never previously defined—kilowatt week

KW—YR—Never previously defined—kilowatt year

MVAR—YR—Never previously defined—megavar year

MW—Never previously defined—megawatt

MWH—Never previously defined—megawatt hour

MW—DAY—Never previously defined—megawatt day

MW—MO—Never previously defined—megawatt month

MW—WK—Never previously defined—megawatt week

MW—YR—Never previously defined—megawatt year

RKVA—Never previously defined—reactive kilovolt amperes

FLAT RATE—Never previously defined—flat rate

RATE UNITS APPENDIX

$/KV—Never previously defined—dollars per kilovolt

$/KVA—Never previously defined—dollars per kilovolt amperes

$/KVR—Never previously defined—dollars per kilovar

$/KW—Never previously defined—dollars per kilowatt

$/KWH—Never previously defined—dollars per kilowatt hour

$/KW—DAY—Never previously defined—dollars per kilowatt day

$/KW—MO—Never previously defined—dollars per kilowatt month

$/KW—WK—Never previously defined—dollars per kilowatt week

$/KW—YR—Never previously defined—dollars per kilowatt year

$/MW—Never previously defined—dollars per megawatt

$/MWH—Never previously defined—dollars per megawatt hour

$/MW—DAY—Never previously defined—dollars per megawatt day

$/MW—MO—Never previously defined—dollars per megawatt month

$/MW—WK—Never previously defined—dollars per megawatt week

$/MW—YR—Never previously defined—dollars per megawatt year

$/MVAR—YR—Never previously defined—dollars per megavar year

$/RKVA—Never previously defined—dollars per reactive kilovar amperes

CENTS—Never previously defined—cents

CENTS/KVR—Never previously defined—cents per kilovolt amperes

CENTS/KWH—Never previously defined—cents per kilowatt hour

FLAT RATE—Never previously defined—rate not specified by any other units

[FR Doc. E7-8640 Filed 5-7-07; 8:45 am]

BILLING CODE 6717-01-P